DEPARTMENT OF THE INTERIOR

Bureau of Indian Affairs

[167A2100DD/AAKC001030/A0A501010.999900 253G]

Indian Child Welfare Act; Designated Tribal Agents for Service of Notice

AGENCY: Bureau of Indians Affairs, Interior.

ACTION: Notice.

SUMMARY: The regulations implementing the Indian Child Welfare Act provide that Indian Tribes may designate an agent other than the Tribal chairman for service of notice of proceedings under the Act. This notice includes the current list of designated Tribal agents for service of notice.

FOR FURTHER INFORMATION CONTACT: Bureau of Indian Affairs, Chief, Division of Human Services, 1849 C Street NW., Mail Stop 4513-MIB, Washington, DC 20240; Phone: (202) 513-7621.

SUPPLEMENTARY INFORMATION: The regulations implementing the Indian Child Welfare Act, 25 U.S.C. 1901 et seq., provide that Indian Tribes may designate an agent other than the Tribal chairman for service of notice of proceedings under the Act. See 25 CFR 23.12. The Secretary of the Interior is required to update and publish in the Federal Register as necessary the names and addresses of the designated Tribal agents. This notice is published in exercise of authority delegated by the Secretary of the Interior to the Principal Deputy Assistant Secretary—Indian Affairs by 209 DM 8.

This notice presents, in two different formats, the names and addresses of current designated Tribal agents for service of notice that the Secretary of the Interior received before this publication was prepared. Part A, published in this notice, lists designated Tribal agents by region and alphabetically by Tribe within each region. Part A is also available electronically at http://www.bia.gov/WhoWeAre/BIA/OIS/HumanServices/index.htm.

Part B is a table that lists designated Tribal agents alphabetically by the Tribal affiliation (listing Tribes in Alaska separately after Tribes in the lower 48 states). Part B is available only in electronic form at http://www.bia.gov/WhoWeAre/BIA/OIS/HumanServices/index.htm.

Each format also lists the Bureau of Indian Affairs contact(s) for each of the twelve regions.

A. List of Designated Tribal Agents by Region

1. Alaska Region

2. Eastern Region

3. Eastern Oklahoma Region

4. Great Plains Region

5. Midwest Region

6. Navajo Region

7. Northwest Region

8. Pacific Region

9. Rocky Mountain Region

10. Southern Plains Region

11. Southwest Region

12. Western Region

A. List of Designated Tribal Agents by Region

1. Alaska Region

Alaska Regional Director, Bureau of Indian Affairs, Human Services, 3601 C Street, Suite 1100 Anchorage, Alaska 99503; Phone: (907) 271-4111

A

Afognak, Native Village of, Denise Malutin, Cultural Programs Coordinator, Taletha Gertz, Program Manager, Melissa Borton, Tribal Administrator, 323 Carolyn Street, Kodiak, AK 99615; Phone: (907) 486-6357; Fax: (907) 486-6529; Email: denise@afognak.org; taletha@afognak.org; Melissa@afognak.org

Agdaagux Tribe of King Cove, Mr. Ozzy E. Escarate, ICWA Representative, Aleutian/Pribilof Islands Association, 1131 East International Airport Road, Anchorage, AK 99518-1408; Phone: (907) 276-2700; Fax: (907) 222-9735; Email: icwa@apiai.org

Akhiok, Native Village of, Hannah Gordon, ICWA Specialist, Kodiak Area Native Association, 3449 Rezanof Drive East, Kodiak, AK 99615; Phone: (907) 486-1370; Fax: (907) 486-4829; Email: hannah.gordon@kanaweb.org; ICWA@kanaweb.org

Akiachak Native Community, Georgianna Wassilie, ICWA Worker & Jonathan Lomack, Tribal Administrator, P.O. Box 51070 Akiachak, AK 99551; Phone: (907) 825-4073 or (907) 825-4626; Fax: (907) 825-4029; Email: gwassilie@avcp.org and Cheryl Offt, ICWA Director, Association of Village Council Presidents, P.O. Box 219, Bethel, AK 99559; Phone: (907) 543-7461; Fax: (907) 543-5759; Email: cofft@avcp.org

Akiak Native Community, David Gilila Sr., ICWA Director, P.O. Box 52127, Akiak, AK 99552; Phone: (907) 765-7909; Fax: (907) 765-7512

Akutan, Native Village of, Mr. Ozzy E. Escarate, ICWA Representative, Aleutian/Pribilof Islands Association, 1131 East International Airport Road, Anchorage, AK 99518-1408; Phone: (907) 276-2700; Fax: (907) 222-9735; Email: icwa@apiai.org

Alakanuk, Native Village of, Charlene Striling, ICWA Worker and Ray Oney, Tribal Administrator, Box 149, Alakanuk, AK 99554; Phone: (907) 238-3704, (907) 238-3419; Fax: (907) 238-3705, (907) 238-3429; Email: cstriling@avcp.org, roney@avcp.org; and Cheryl Offt, ICWA Director, Association of Village Council Presidents, P.O. Box 219, Bethel, AK 99559; Phone: (907) 543-7461; Fax: (907) 543-5759; Email: cofft@avcp.org

Alatna Village, P.O. Box 70 Allakaket, AK 99720; Phone: (907) 968-2261; Fax: (907) 968-2305; and Tanana Chiefs Conference, Legal Department, 122 First Avenue, Suite 600, Fairbanks, AK 99701; Phone: (907) 452-8251 ext. 3178; Fax: (907) 459-3953

Aleknagik, Native Village of, Jane Gottschalk, Caseworker, ICWA P.O. Box 115, Aleknagik, AK 99555; Phone: (907) 842-4577; Fax: (907) 842-2229; Email: aleknagokicwa@bbna.com and Bristol Bay Native Association, Children's Services Division Manager, P.O. Box 310, 1500 Kanakanak Road, Dillingham, AK 99576; Phone: (907) 842-4139; Fax: (907) 842-4106; Email: cnixon@bbna.com

Algaaciq Native Village (St. Mary's), Theresa Kelly, ICWA Worker & Sven Paukan, Tribal Administrator, Box 48, St. Mary's, AK 99658; Phone: (907) 438-2335 or (907) 438-2932; Fax: (907) 438-2227; Email: tkelly@avcp.org and Cheryl Offt, ICWA Director, Association of Village Council Presidents, P.O. Box 219, Bethel, AK 99559; Phone: (907) 543-7461; Fax: (907) 543-5759; Email: cofft@avcp.org

Allakaket Village, Corinna Gray, Tribal Family Youth Specialist, P.O. Box 50, Allakaket, AK 99720; Phone: (907) 968-2303; Fax: (907) 968-2233; Email: corinna.gray@tananachiefs.org; and Tanana Chiefs Conference, Legal Department, 122 First Avenue, Suite 600, Fairbanks, AK 99701; Phone: (907) 452-8251 ext. 3178; Fax: (907) 459-3953

Ambler, Native Village of, Hannah Wood, ICWA Coordinator, Katherine Cleveland, Council ICWA; P.O. Box 47 Ambler, AK 99786; Phone: (907) 445-2189 or (907) 445-5051; Fax: (907) 445-2257 or (907) 445-2181; Email: icwa@ivisaappaat.org

Anaktuvuk Pass Village of, Marie H. Ahsoak, Social Services Director, P.O. Box 934, Barrow, AK 99723; Phone: (907) 852-5923; Fax: (907) 852-5924; Email: social@inupiatgov.com

Andreafski (see Yupiit of Andreafski)

Angoon Community Association, Raynelle Jack, Tribal Administrator & Wally Frank, President, P.O. Box 328, Angoon, AK, 99820; Phone: (907) 788-3411; Fax: (907) 788-3412; Email: rjack.agntribe@gmail.com

Aniak, Village of, Muriel Morgan, ICWA Worker, P.O. Box 349, Aniak, AK 99557; Phone: (907) 675-4349; Fax: (907) 675-4513; Email: aniaktribe@gmail.com

Anvik Village, Tami Jerue, Tribal Family Youth Specialist, P.O. Box 10, Anvik, AK 99558; Phone: (907) 663-6388; Fax: (907) 663-6357; and Tanana Chiefs Conference, Legal Department, 122 First Avenue, Suite 600, Fairbanks, AK 99701; Phone: (907) 452-8251 ext. 3178; Fax: (907) 459-3953

Arctic Village, Tribal Administrator, P.O. Box 22069, Arctic Village, AK 99722; Phone: (907) 587-5523; Fax: (907) 587-5128; and Tanana Chiefs Conference, Legal Department, 122 First Avenue, Suite 600, Fairbanks, AK 99701; Phone: (907) 452-8251 ext. 3178; Fax: (907) 459-3953

Asa'carsarmiut Tribe (formerly Native Village of Mountain Village), Evelyn Peterson and Daphne Joe, Directors of Social Services & Education, P.O. Box 32107; Mountain Village, AK 99632; Phone: (907) 591-2428; Fax: (907) 591-2934; Email: atcicwa@gci.net

Atka, Native Village of, Mr. Ozzy E. Escarate, ICWA Representative, Aleutian/Pribilof Islands Association, 1131 East International Airport Road, Anchorage, AK 99518-1408; Phone: (907) 276-2700; Fax: (907) 222-9735; Email: icwa@apiai.org

Atmautluak, Village of, Alexie Earl Brown, ICWA Worker & Daniel Waska, Tribal Administrator, P.O. Box 6568, Atmautluak, AK 99559; Phone: (907) 553-5610 or (907) 553-5613; Fax: (907) 553-5150; Email: atmautluaktc@gmail.com

Atqasuk Village, P.O. Box 91108, Atqasuk, Alaska 99791; Phone: (907) 633-2575; Fax: (907) 633-2576 and Maude Hopson, Community & Social Services Division Manager, Arctic Slope Native Association, P.O. Box 29, Barrow, Alaska 99723; Phone: (907) 852-9374; Fax: (907) 852-9152; Email: maude.hopson@arcticslope.org

B

Barrow Inupiat Traditional Government, Marjorie Solomon, Social Services Director, P.O. Box 1130 Barrow, AK 99723; Phone: (907) 852-4411 Fax: (907) 852-4413; Email: marjorie.solomon@nvbarrow.net

Beaver Village, Arlene Pitka, Tribal Family Youth Specialist, P.O. Box 24029, Beaver, AK 99724; Phone: (907) 628-6126; Fax: (907) 628-6185; and Tanana Chiefs Conference, Legal Department, 122 First Avenue, Suite 600, Fairbanks, AK 99701; Phone: (907) 452-8251 ext. 3178; Fax: (907) 459-3953

Belkofski Native Village of, Mr. Ozzy E. Escarate, ICWA Representative, Aleutian/Pribilof Islands Association, 1131 East International Airport Road, Anchorage, AK 99518-1408; Phone: (907) 276-2700; Fax: (907) 222-9735; Email: icwa@apiai.org

Bethel (see Orutsararmuit Native Council)

Bettles Field (see Evansville Village)

Bill Moore's Slough, Village of, Nancy C. Andrews, ICWA Worker & Joel Okitkun, Tribal Administrator, P.O. Box 20288, Kotlik, AK 99620; Main Office Phone: (907) 899-4232; Main Office Fax: (907) 899-4461; ICWA Office Phone: (907) 899-4236; ICWA Office Fax: (907) 899-4002; Email: nacnadrews123@gmail.com; joelokitkun@gmail.com

Birch Creek Tribe, Jackie Balaam, Tribal Family Youth Specialist, 3202 Shell Street, Fairbanks, AK 99701; Phone: (907) 221-2215; Fax: (907) 452-5063; and Tanana Chiefs Conference, Legal Department, 122 First Avenue, Suite 600, Fairbanks, AK 99701; Phone: (907) 452-8251 ext. 3178; Fax: (907) 459-3953

Brevig Mission, Native Village of, Linda Divers, Tribal Family Coordinator, P.O. Box 85039, Brevig Mission, AK 99785; Phone: (907) 642-3012; Fax: (907) 642-3042; Email: tfc.kts@kawerak.org and Ms. Traci McGarry, Program Director, Kawerak, Inc. Children & Family Services, P.O. Box 948 Nome, AK 99762; Phone: (907) 443-4376 Fax: (907) 443-4474; Email: cfsdir@kawerak.org

Buckland, Native Village of, Glenna Parrish, ICWA Coordinator, P.O. Box 25, Buckland, AK 99727; Phone: (907) 494-2169; Fax: (907) 494-2192; Email: icwa@nunachiak.org

C

Cantwell, Native Village of, Nelly Ewan, ICWA Advocate, P.O. Box H, Copper Center, AK 99573; Phone: (907) 822-8865 or (907) 320-0048; Fax: (907) 822-8800; Email: newan@crnative.org

Central Council of the Tlingit and Haida Indian Tribes of Alaska, Barbara Dude, Child Welfare Program Specialist; 320 W. Willoughby Ave., Suite 300, Juneau, AK 99801; Phone: (907) 463-7169; Fax: (907) 885-0032; Email: icwamail@ccthita.org

Chalkyitsik Village, Tamara Henry, Tribal Administrator, P.O. Box 57, Chalkyitsik, AK 99788; Phone: (907) 848-8117; Fax: (907) 848-8986; and Tanana Chiefs Conference, Legal Department, 122 First Avenue, Suite 600, Fairbanks, AK 99701; Phone: (907) 452-8251 ext. 3178 Fax: (907) 459-3953

Chenega, Native Village of, Norma J. Selanoff, ICWA Representative, P.O. Box 8079, Chenega Bay, AK 99574-8079; Phone: (907) 573-5386; Fax: (907) 573-5020; Email: taaira@nativevillageofchenega.com

Cheesh-Na Tribe, Ms. Cecil Sanford, Tribal Administrator, P.O. Box 241, Gakona, AK 99586; Phone: (907) 822-3503; Fax: (907) 822-5179; Email: csanford@cheeshna.com

Chefornak, Village of, Edward Kinegak, ICWA Specialist and Bernadette Lewis, Tribal Administrator, P.O. Box 110, Chefornak, AK. 99651; Phone: (907) 867-8808 or (907) 867-8850; Fax: (907) 867-8711; Email: ekinegak@avcp.org and Cheryl Offt, ICWA Director, Association of Village Council Presidents, P.O. Box 219, Bethel, AK 99559; Phone: (907) 543-7461; Fax: (907) 543-5759; Email: cofft@avcp.org

Chevak Native Village, Natasia Ulroan, ICWA Worker & Mary Jones, Tribal Administrator, Box 140, Chevak, AK 99563; Phone: (907) 858-7918 or (907) 858-7428; Fax: (907) 858-7919 or (907) 858-7812; Email: nulroan@avcp.org, chevaktc@gmail.com and Cheryl Offt, ICWA Director, Association of Village Council Presidents, P.O. Box 219, Bethel, AK 99559; Phone: (907) 543-7461; Fax: (907) 543-5759; Email: cofft@avcp.org

Chickaloon Native Village, Penny Westing, ICWA Case Manager, P.O. Box 1105, Chickaloon, AK 99674-1105; Main Office Phone: (907) 745-0749; Phone: (907) 745-0794; Fax: (907) 745-0709; Email: penny@chickaloon.org

Chignik Bay Tribal Council, Debbie Carlson, Administrator, Box 11, Chignik Bay, AK 99564; Phone: (907) 749-2445; Fax: (907) 749-2423; Email: cbaytc@aol.com; and Bristol Bay Native Association, Children's Services Division Manager, P.O. Box 310, 1500 Kanakanak Road, Dillingham, AK 99576; Phone: (907) 842-4139; Fax: (907) 842-4106; Email: cnixon@bbna.com

Chignik Lagoon, Native Village of, Nancy Anderson, Case Worker, ICWA, P.O. Box 09, Chignik Lagoon, AK 99565; Phone: (907) 444-4060; Fax: (907) 840-2282; Email: chigniklagoonicwa@bbna.com and Bristol Bay Native Association, Children's Services Division Manager, P.O. Box 310, 1500 Kanakanak Road, Dillingham, AK 99576; Phone: (907) 842-4139; Fax: (907) 842-4106; Email: cnixon@bbna.com

Chignik Lake Village, Shirley Kalmakoff, Administrator, P.O. Box 33, Chignik Lake, AK 99548; Phone: (907) 845-2212; Fax: (907) 845-2217; Email: chigniklakevillagecouncil@gmail.com and Bristol Bay Native Association, Children's Services Division Manager, P.O. Box 310, 1500 Kanakanak Road, Dillingham, AK 99576; Phone: (907) 842-4139; Fax: (907) 842-4106; Email: cnixon@bbna.com

Chilkat Indian Village, Carrie-Ann Durr, ICWA Caseworker, HC 60 Box 2207, Haines, AK 99827; Phone: (907) 767-5505 Ext: 228; Fax: (907) 767-5408; Email: cdurr@chilkat-nsn.gov

Chilkoot Indian Association, Stella Howard, Family Caseworker II, P.O. Box 624, Haines, AK 99827; Phone: (907) 766-2323 Ext. 111; Fax: (907) 766-2845; Email: showard@ccthita.org

Chinik Eskimo Community (aka Golovin), Kirstie Ione, Tribal Family Coordinator, P.O. Box 62019, Golovin, AK 99762; Phone: (907) 779-3489; Fax: (907) 779-2000; Email: tfc.glv@kawerak.org and Ms. Traci McGarry, Program Director, Kawerak, Inc. Children & Family Services, P.O. Box 948, Nome, AK 99762; Phone: (907) 443-4376; Fax: (907) 443-4474; Email: cfsdir@kawerak.org

Chistochina (see Cheesh-na Tribe)

Chitina, Native Village of, Tribal President and Tribal Administrator, P.O. Box 31, Chitina, AK 99566; Phone: (907) 823-2215; Fax: (907) 823-2233

Chuathbaluk Native Village of, Teresa Simeon-Hunter, ICWA Worker & Tracy Simeon, Tribal Administrator, Box CHU, Chuathbaluk, AK 99557; Phone: (907) 467-4313; Fax: (907) 467-4113; Email: ctc.teresahunter@gmail.com, chuathbaluktradcouncil@gmail.com and Cheryl Offt, ICWA Director, Association of Village Council Presidents, P.O. Box 219, Bethel, AK 99559; Phone: (907) 543-7461; Fax: (907) 543-5759; Email: cofft@avcp.org

Chuloonawick Native Village, Tribal Administrator, P.O. Box 245, Emmonak, AK 99581; Phone: (907) 949-1345; Fax: (907) 949-1346

Circle Native Community, Jessica Boyle, Tribal Family Youth Specialist, P.O. Box 89, Circle, AK 99733; Phone: (907) 773-2822; Fax: (907) 773-2823; Email: Jessica.boyle@tananachiefs.org; and Tanana Chiefs Conference, Legal Department, 122 First Avenue, Suite 600, Fairbanks, AK 99701; Phone: (907) 452-8251 ext. 3178; Fax: (907) 459-3953

Clarks Point, Village of, Nadine Wassily, Administrator, P.O. Box 9, Clarks Point, AK 99569; Phone: (907) 236-1427; Fax: (907) 236-1428; Email: clarkspointadmin@bbna.com and Bristol Bay Native Association, Children's Services Division Manager, P.O. Box 310, 1500 Kanakanak Road, Dillingham, AK 99576; Phone: (907) 842-4139; Fax: (907) 842-4106; Email: cnixon@bbna.com

Copper Center (see Native Village of Kluti-Kaah)

Cordova (see Eyak)

Council, Native Village of, Rhonda Hanebuth, ICWA Coordinator, P.O. Box 986, Nome, AK 99762; Phone: (907) 443-7649; Fax: (907) 443-5965

Craig Tribal Association, Roberta Patten, Family Caseworker I, P.O. Box 746 Craig, AK 99921; Phone: (907) 826-3948 Fax: (907) 826-5526; Email: rpatten@ccthita.org and Central Council Tlingit and Haida Tribes of Alaska; Barbara Dude, Child Welfare Program Specialist, 320 W. Willoughby Ave., Suite 300, Juneau, AK 99801; Phone: (907) 463-7169; Fax: (907) 885-0032; Email: icwamail@ccthita.org

Crooked Creek, Native Village of, Helen Macar, ICWA Worker and Tribal Administrator, P.O. Box 69, Crooked Creek, AK 99575; Phone: (907) 432-2200; Fax: (907) 432-2201; Email: bbcc@starband.net

Curyung Tribal Council, (formerly the Native Village of Dillingham), Deanna Baier, Case Worker, ICWA, P.O. Box 216, Dillingham, AK 99576; Phone: (907) 842-4508; Fax: (907) 842-4510; Email: dillinghamicwa@bbna.com; and Bristol Bay Native Association, Children's Services Division Manager, P.O. Box 310, 1500 Kanakanak Road, Dillingham, AK 99576; Phone: (907) 842-4139; Fax: (907) 842-4106; Email: cnixon@bbna.com

D

Deering, Native Village of, Pearl Moto, ICWA Coordinator and Delores Iyatunguk, Administrator, P.O. Box 36089, Deering, AK 99736; Phone: (907) 363-2138; Fax: (907) 363-2195 Email: drgicwa@gmail.com; Tribaladmin@ipnatchiaq.org and Maniilaq Association, Family Services, P.O. Box 256, Kotzebue, AK 99752; Phone: (907) 442-7870

Dillingham (see Curyung Tribal Council)

Diomede (aka Inalik) Native Village of, Florence Kuzuguk, Tribal Family Coordinator, P.O. Box 948 Nome, AK 99762; Phone: (907) 443-4261; Fax: (907) 443-4601; Email: tfc.dio@kawerak.org and Ms. Traci McGarry, Program Director, Kawerak, Inc. Children & Family Services, P.O. Box 948, Nome, AK 99762; Phone: (907) 443-4376; Fax: (907) 443-4474; Email: cfsdir@kawerak.org

Dot Lake, Village of, Clara Perdue, ICWA Worker, P.O. Box 2279 Dot Lake, AK 99737; Phone: (907) 882-5555; Fax: (907) 882-5558; Email: clara.perdue@dlvc@gmail.com; and Tanana Chiefs Conference, Legal Department, 122 First Avenue, Suite 600, Fairbanks, AK 99701; Phone: (907) 452-8251 ext. 3178; Fax: (907) 459-3953

Douglas Indian Association, Loretta (Betty) Marvin, Family Caseworker, 811 West 12th Street, Juneau, AK 99801; Phone: (907) 364-2983 and (907) 364-2916; Fax: (907) 364-2917; Email: bmarvin-dia@gci.net

E

Eagle, Native Village of, Claire Ashley, Tribal Family Youth Specialist, P.O. Box 19, Eagle, AK 99738; Phone: (907) 547-2271; Fax: (907) 547-2318; Email: Claire.ashley@tananachiefs.org; and Tanana Chiefs Conference, Legal Department, 122 First Avenue, Suite 600, Fairbanks, AK 99701; Phone: (907) 452-8251 ext. 3178; Fax: (907) 459-3953

Edzeno (see Nikolai Village)

Eek, Native Village of, Lillian Cleveland, ICWA Worker and Nick Carter Tribal Administrator, P.O. Box 89, Eek, AK 99578; Phone: (907) 536-5572 or (907) 563-5128; Fax: (907) 536-5582 or (907) 536-5711; Email: lcleveland@avcp.org; and Cheryl Offt, ICWA Director, Association of Village Council Presidents, P.O. Box 219, Bethel, AK 99559; Phone: (907) 543-7461; Fax: (907) 543-5759; Email: cofft@avcp.org

Egegik Village, Marcia Abalama, Case Worker, ICWA, P.O. Box 154, Egegik, AK 99579; Phone: (907) 233-2207; Fax: (907) 233-2312; Email: egegikicwa@bbna.com; and Bristol Bay Native Association, Children's Services Division Manager, P.O. Box 310, 1500 Kanakanak Road, Dillingham, AK 99576; Phone: (907) 842-4139; Fax: (907) 842-4106; Email: cnixon@bbna.com

Eklutna, Native Village of, Jamison M. Cole, ICWA Worker, Social Services Director, P.O. Box 670666, Chugiak, AK 99567; Phone: (907) 688-1808 Cell: (907) 242-6980 Fax: (907) 688-6032; Email: nve.icwa@eklutna-nsn.gov; nve.socialservice@eklutna-nsn.gov

Ekuk Native Village of, Diane Folsom, Administrator, P.O. Box 530, Dillingham, AK 99576; Phone: (907) 842-3842; Fax: (907) 842-3843; Email: ekukadmin@bbna.com; and Bristol Bay Native Association, Children's Services Division Manager, P.O. Box 310, 1500 Kanakanak Road, Dillingham, AK 99576; Phone: (907) 842-4139; Fax: (907) 842-4106; Email: cnixon@bbna.com

Ekwok, Native Village of, Richard King, Administrator, P.O. Box 70, Ekwok, AK 99580; Phone: (907) 464-3336; Fax: (907) 464-3378; Email: ekwokadmin@bbna.com and Bristol Bay Native Association, Children's Services Division Manager, P.O. Box 310, 1500 Kanakanak Road, Dillingham, AK 99576; Phone: (907) 842-4139; Fax: (907) 842-4106; Email: cnixon@bbna.com

Elim, Native Village of, Joseph Murray, Tribal Family Coordinator, P.O. Box 70, Elim, AK 99739 Phone: (907) 890-2457; Fax: (907) 890-2458 Email: tfc.eli@kawerak.org and Ms. Traci McGarry, Program Director, Kawerak, Inc. Children & Family Services, P.O. Box 948 Nome, AK 99762 Phone: (907) 443-4376 Fax: (907) 443-4474; Email: cfsdir@kawerak.org

Emmonak Village, Priscilla S. Kameroff, ICWA Coordinator, Tribal Administrator, P.O. Box 126, Emmonak, AK 99581; Phone: (907) 949-1720 or (907) 949-1820; Fax: (907) 949-1384; Email: icwa@hughes.net

English Bay (see Native Village of Nanwalek)

Evansville Village (aka Bettles Field), Naomi Costello, Tribal Administrator, P.O. Box 26087, Bettles Field, AK 99726; Phone: (907) 692-5005; Fax: (907) 692-5006; Email: evanvillealaska@gmail.com; and Tanana Chiefs Conference, Legal Department, 122 First Avenue, Suite 600, Fairbanks, AK 99701; Phone: (907) 452-8251 ext. 3178; Fax: (907) 459-3953

Eyak, Native Village, (Cordova) Erin Kurz, ICWA Coordinator, P.O. Box 1388, Cordova, AK 99574; Phone: (907) 424-7738; Fax: (907) 424-7809; Email: Erin.Kurz@eyak-nsn.gov

F

False Pass Native Village of, Mr. Ozzy E. Escarate, ICWA Representative, Aleutian/Pribilof Islands Association, 1131 East International Airport Road, Anchorage, AK 99518-1408; Phone: (907) 276-2700; Fax: (907) 222-9735; Email: icwa@apiai.org

Fort Yukon, Native Village (See Gwichyaa Zhee Gwich'in)

Fortuna Ledge (see Native Village of Marshall)

G

Gakona, Native Village of, Charlene Nollner, Tribal Administrator, P.O. Box 102, Gakona, AK 99586; Phone: (907) 822-5777; Fax: (907) 822-5997; Email: gakonaadmin@cvinternet.net

Galena Village (aka Louden Village), Tribal Administrator P.O. Box 244, Galena, AK 99741; Phone: (907) 656-1711; Fax: (907) 656-2491

Gambell, Native Village of, Susan Apassinggok, ICWA Coordinator, P.O. Box 90, Gambell, AK 99742; Phone: (907) 985-5346 Ext. 4; Fax: (907) 985-5014; Email: aaka77@gmail.com

Georgetown, Native Village of, Will Hartman, Tribal Administrator, 5313 Arctic Blvd., Suite 104, Anchorage, AK 99518; Phone: (907) 274-2195; Fax: (907) 274-2196; Email: gtc@gci.net

Golovin (see Chinik Eskimo Community)

Goodnews Bay, Native Village of, Pauline Echuk, ICWA Worker, Peter Julius, Tribal Administrator, P.O. Box 138, Goodnews Bay, AK 99589; Phone: (907) 967-8929; Fax: (907) 967-8330; Email: pechuck@avcp.org, Goodnews907@gmail.com and Cheryl Offt, ICWA Director, Association of Village Council Presidents, P.O. Box 219, Bethel, AK 99559; Phone: (907) 543-7461; Fax: (907) 543-5759; Email: cofft@avcp.org

Grayling (see Organized Village of Grayling)

Gulkana Village, Rachel S. Foil, Family Services Specialist, P.O. Box 254 Gakona, AK 99586; Phone: (907) 822-5363; Fax: (907) 822-3976; Email: icwa@gulkanacouncil.org

Gwichyaa Zhee Gwich'in (formerly Native Village of Fort Yukon) Arlene Peter, Tribal Family Youth Specialist, P.O. Box 10, Fort Yukon, Alaska 99740; Phone: (907)662-3625; Fax: (907) 662-3118; Email: arlene.peter@fortyukon.org and Tanana Chiefs Conference Legal Department, 122 First Avenue, Suite 600, Fairbanks, Alaska 99701; Phone: (907) 452-8251 ext. 3178; Fax: (907) 459-3953

H

Haines (see Chilkoot Indian Association)

Hamilton Native Village of, Della Hunt, ICWA Worker, Irene Williams, Tribal Administrator, P.O. Box 20248 Hamilton, AK 99620; Phone: (907) 899-4252; Fax: (907) 899-4202; and Cheryl Offt, ICWA Director, Association of Village Council Presidents, P.O. Box 219, Bethel, AK 99559; Phone: (907) 543-7461; Fax: (907) 543-5759; Email: cofft@avcp.org

Healy Lake Village, Tribal Administrator, P.O. Box 60300, Healy Lake, Alaska 99706; Phone: (907) 876-5018; Fax: (907) 876-5013; And Tanana Chiefs Conference Legal Department, 122 First Avenue, Suite 600, Fairbanks, Alaska 99701; Phone: (907) 452-8251 ext. 3178; Fax: (907) 459-3953

Holikachuk (see Grayling)

Holy Cross Village, Rebecca Demientieff, Tribal Family Youth Specialist, P.O. Box 191, Holy Cross, AK 99602; Phone: (907) 476-7249; Fax: (907) 476-7132; Email: rebecca.demientieff@tananachiefs.org and Tanana Chiefs Conference, Legal Department, 122 First Avenue, Suite 600, Fairbanks, AK 99701; Phone: (907) 452-8251 ext. 3178; Fax: (907) 459-3953

Hoonah Indian Association, Candy Keown, Human Services Department Director, P.O. Box 602 Hoonah, AK 99829; Phone: (907) 945-3545; Fax: (907) 945-3703; Email: ckeown@hiatribe.org

Hooper Bay, Native Village, Teresa Long, ICWA Worker, Fred Joseph Jr., Tribal Administrator, Box 69, Hooper Bay, AK 99604; Phone: (907) 758-4006 or (907) 758-4915; Fax: 758-4606 or (907) 758-4066; Email: tvlong@avcp.org and Cheryl Offt, ICWA Director, Association of Village Council Presidents, P.O. Box 219, Bethel, AK 99559; Phone: (907) 543-7461; Fax: (907) 543-5759; Email: cofft@avcp.org;

Hughes Village, Ella Sam, Tribal Family Youth Specialist, P.O. Box 45029 Hughes, AK 99745; Phone: (907) 889-2260; Fax: (907) 889-2252; Email: ella.sam@tananachiefs.org and Tanana Chiefs Conference, Legal Department, 122 First Avenue, Suite 600, Fairbanks, AK 99701; Phone: (907) 452-8251 ext. 3178; Fax: (907) 459-3953

Huslia Village, Cesa Agnes, Tribal Family Youth Specialist, P.O. Box 70, Huslia, AK 99746; Phone: (907) 829-2202; Fax: (907) 829-2214; Email:cesa.agnes@tananachiefs.org; and Tanana Chiefs Conference, Legal Department, 122 First Avenue, Suite 600, Fairbanks, AK 99701; Phone: (907) 452-8251 ext. 3178; Fax: (907) 459-3953

Hydaburg Cooperative Association, Colleen Kashevarof, Human Services Director, P.O. Box 349, Hydaburg, AK 99922; Phone: (907) 285-3662; Fax: (907) 285-3541; Email: Hcahumanservices@gmail.com

I

Igiugig Village, Tanya Salmon, ICWA Worker, P.O. Box 4008, Igiugig, AK 99613; Phone: (907) 533-3211; Fax: (907) 533-3217; Email: tanya.jo.salmon@gmail.com or iguigig.vc@gmail.com

Iliamna, Village of, Louise Anelon, ICWA Worker, P.O. Box 286, Iliamna, AK 99606; Phone: (907) 571-1246; Fax: 571-3539; Email: louise.anelon@iliamnavc.org

Inupiat Community of the Arctic Slope, Marie H. Ahsoak, Social Services Director, P.O. Box 934, Barrow, AK 99723; Phone: (907) 852-5923; Fax: (907) 852-5924; Email: social@inupiatgov.com

Iqurmuit Traditional Council (aka Russian Mission), Katie Nick, ICWA Worker and Anita Wigley, Tribal Administrator, P.O. Box 09, Russian Mission, AK 99657; Phone: (907) 584-5594 or (907) 584-5511; Fax: (907) 584-5596 or (907) 584-5593; Email: knick@avcp.org and Cheryl Offt, ICWA Director, Association of Village Council Presidents, P.O. Box 219, Bethel, AK 99559; Phone: (907) 543-7461; Fax: (907) 543-5759; Email: cofft@avcp.org

Ivanoff Bay, Village of, Nicole Cabrera, Administrator, 7926 Old Seward Hwy, Suite B-5, Anchorage, AK 99518; Phone (907) 522-2263; Fax: (907) 522-2363; Email: ivanoffbayadmin@bbna.com; and Bristol Bay Native Association, Children's Services Division Manager, P.O. Box 310, 1500 Kanakanak Road, Dillingham, AK 99576; Phone: (907) 842-4139; Fax: (907) 842-4106; Email: cnixon@bbna.com

K

Kaguyak Village, Phyllis Amodo, Tribal President, P.O. Box 5078, Akhiok, AK 99615; Phone: (907) 836-2231; Fax: (907) 836-2345

Kake (see Organized Village of Kake)

Kaktovik Village of, (aka Barter Island), P.O. Box 52, Kaktovik, Alaska 99747; Phone: (907) 640-2042; Fax: (907) 640-2044 and Maude Hopson, Community & Social Services Division Manager, Arctic Slope Native Association, P.O. Box 29, Barrow, Alaska 99723; Phone: (907) 852-9374; Fax: (907) 852-9152; Email: maude.hopson@arcticslope.org

Kalskag, Village of, (aka Upper Kalskag) Bonnie Persson, Tribal Administrator, P.O. Box 50 Kalskag, AK 99607; Phone: (907) 471-2296 or (907) 471-2207; Fax: (907) 471-2399; and Cheryl Offt, ICWA Director, Association of Village Council Presidents, P.O. Box 219, Bethel, AK 99559; Phone: (907) 543-7461; Fax: (907) 543-5759; Email: cofft@avcp.org

Lower Kalskag (See Lower Kalskag)

Kaltag, Village of, Ann Neglaska, Tribal Family Youth Specialist, P.O. Box 129 Kaltag, AK 99748; Phone: (907) 534-2243; Fax: (907) 534-2264; Email: ann.neglaska@tananachiefs.org; and Tanana Chiefs Conference, Legal Department, 122 First Avenue, Suite 600, Fairbanks, AK 99701; Phone: (907) 452-8251 ext. 3178; Fax: (907) 459-3953

Kanatak, Native Village, Shawn Shanigan, Administrator, P.O. Box 876822 Wasilla, AK 99687; Phone: (907) 315-3878; Fax: (907) 357-5992; Email: kanatak@mtaonline.net and Bristol Bay Native Association, Children's Services Division Manager, P.O. Box 310, 1500 Kanakanak Road, Dillingham, AK 99576; Phone: (907) 842-4139; Fax: (907) 842-4106; Email: cnixon@bbna.com

Karluk, Native Village of, Alicia Andrew, Administrator, P.O. Box 22, Karluk, AK 99608; Phone: (907) 241-2218; Fax: (907) 241-2208; Email: karlukiracouncil@aol.com

Kassan (see Organized Village of Kasaan)

Kashnumiut Tribe (see Chevak)

Kasigluk Traditional Elders Council, Nora O. Brink, ICWA Family Specialist, P.O. Box 19, Kasigluk, AK 99609; Phone: (907) 477-6418; Fax: (907) 477-6416; Email: kasiglukicwa996@gmail.com

Kenaitze Indian Tribe, Kalyn Simpson and Rebecca Strong, ICWA Tribal Representatives, P.O. Box 988, Kenai, AK 99611; Phone: (907) 335-7200; Fax: (907) 335-7236; Email: ksimpson@kenaitze.org, rstrong@kenaitze.org

Ketchikan Indian Corporation, Misty Archibald, ICWA Tribal Representative, 615 Stedman St. Suite 201, Ketchikan, AK 99901; Phone: (907) 228-9294; Fax: 800-590-3277; Email: marchibald@kictribe.org

Kiana, Native Village of, Kayla Pete, ICWA Coordinator & Dale B. Stotts, Tribe Director, P.O. Box 69 Kiana, AK 99749; Phone: (907) 475-2226 or (907) 475-2109; Fax: (907) 475-2266 or (907) 475-2180; Email: icwa@katyaaq.org, tribedirector@katyaaq.org

King Cove (see Agdaagux)

King Island Native Community, Heather Payenna, Tribal Family Coordinator/Supervisor, P.O. Box 682 Nome, AK 99762; Phone: (907) 443-5181; Fax: (907) 443-8049; Email: tfc.ki@kawerak.org and Ms. Traci McGarry, Program Director, Kawerak, Inc. Children & Family Services, P.O. Box 948, Nome, AK 99762; Phone: (907) 443-4376; Fax: (907) 443-4474; Email: cfsdir@kawerak.org

King Salmon Tribe, Tribal Administrator, P.O. Box 68 King Salmon, AK 99613; Phone: (907) 246-3553 (907) 246-3447; Fax: (907) 246-3449

Kipnuk Native Village of, Helen Paul, ICWA Worker & Raul Dock, Tribal Administrator, P.O. Box 57, Kipnuk, AK 99614; Phone: (907) 896-5430 or (907) 869-5515; Fax: (907) 896-5704 or (907) 869-5240; Email: hpaul@avcp.org; and Cheryl Offt, ICWA Director, Association of Village Council Presidents, P.O. Box 219, Bethel, AK 99559; Phone: (907) 543-7461; Fax: (907) 543-5759; Email: cofft@avcp.org

Kivalina, Native Village of, Stanley Hawley, Administrator and Millie Hawley, President, P.O. Box 51, Kivalina, AK 99750; Phone: (907) 645-2153 or (907)645-2227; Fax: (907) 645-2193; Email: tribeadmin@kivaliniq.org; millie.hawley@maniilaq.org and Maniilaq Association, Family Services, P.O. Box 256, Kotzebue, AK 99752; Phone: (907) 442-7870

Klawock Cooperative Association, Cynthia Mills, Family Caseworker II, P.O. Box 173, Klawock, AK 99925; Phone: (907) 755-2326; Fax: (907) 755-2647; Email: cmills@ccthita.org

Klukwan (see Chilkat Indian Village)

Kluti- Kaah, Native Village of, (aka Copper Center) Nelly Ewan, ICWA Advocate, P.O. Box H, Copper Center, AK 99573; Phone: (907) 822-8865 or (907) 320-0048; Fax: (907) 822-8800; Email: newan@crnative.org

Knik Tribe, Geraldine Nicoli, ICWA Worker, P.O. Box 871565, Wasilla, AK 99687; Phone: (907) 373-7938; Fax: (907) 373-2153; Email: gnicoli@kniktribe.org

Kobuk, Native Village of, Tribal Administrator, P.O. Box 39, Kobuk, AK 99751; Phone: (907) 948-2007 or (907) 442-7879; Fax: (907) 948-2123; Email: tribeadmin@laugvik.org and Maniilaq Association, Family Services, P.O. Box 256, Kotzebue, AK 99752; Phone: (907) 442-7870

Kodiak Native Village of (see Sun'aq Tribe of Kodiak)

Kokhanok Village, Mary Andrew, Caseworker, ICWA, P.O. Box 1007, Kokhanok, AK 99606; Phone: (907) 282-2224; Fax: (907) 282-2221; Email: kokhanokicwa@bbna.com and Bristol Bay Native Association, Children's Services Division Manager, P.O. Box 310, 1500 Kanakanak Road, Dillingham, AK 99576; Phone: (907) 842-4139; Fax: (907) 842-4106; Email: cnixon@bbna.com

Koliganek Village (see New Kolignanek)

Kongiganak Traditional Council, Janet Otto, ICWA Worker & Roland Andrew, Tribal Administrator, P.O. Box 5069, Kongiganak, AK 99545; Phone: (907) 557-5311 or (907) 557-5226; Fax: (907) 557-5348 or (907) 557-5224; Email: kong.tribe@gmail.com; and Cheryl Offt, ICWA Director, Association of Village Council Presidents, P.O. Box 219, Bethel, AK 99559; Phone: (907) 543-7461; Fax: (907) 543-5759; Email: cofft@avcp.org

Kotlik, Village of, Emma Mathis, ICWA Worker & Rose Cheemuk, President, P.O. Box 20210, Kotlik, AK 99620; Phone: (907) 899-4459 or (907) 899-4326 Fax: (907) 899-4467 or (907) 899-4790 and Cheryl Offt, ICWA Director, Association of Village Council Presidents, P.O. Box 219, Bethel, AK 99559; Phone: (907) 543-7461; Fax: (907) 543-5759; Email: cofft@avcp.org

Kotzebue, Native Village of, Louise Conwell, Tribal Family Services, P.O. Box 296, Kotzebue, AK 99752; Phone: (907) 442-3467; Fax: (907) 442-4013 or (907) 442-2162; Email: louise.conwell@qira.org

Koyuk, Native Village of, Leo Charles Sr., Tribal Family Coordinator, P.O. Box 53149, Koyuk, AK 99753; Phone: (907) 963-2215; Fax: (907) 963-2300; and Traci McGarry, Program Director, Kawerak, Inc. Children & Family Services, P.O. Box 948 Nome, AK 99762; Phone: (907) 443-4376; Fax: (907) 443-4474; Email: cfsdir@kawerak.org

Koyukuk, Native Village of, Euphrasia Dayton-Demoski, Tribal Family Youth Specialist, P.O. Box 109, Koyukuk, AK 99754; Phone: (907) 927-2208; Fax: (907) 927-2220; Email: euphrasia.daytondemoski@tananachiefs.org; and Tanana Chiefs Conference, Legal Department, 122 First Avenue, Suite 600, Fairbanks, AK 99701; Phone: (907) 452-8251 ext. 3178; Fax: (907) 459-3953

Kwethluk (see Organized Village of Kwethluk)

Kwigillingok, Native Village of, Andrew Beaver, Tribal Administrator, P.O. Box 90, Kwigillingok, AK 99622; Phone: (907) 588-8114 or (907) 588-8212; Fax: (907) 588-8429

Kwinhagak (aka Quinhagak), Native Village of, Martha Nicolai, Health & Human Service Director, ICWA Worker, P.O. Box 149, Quinhagak, AK 99655; Phone: (907) 556-8393; Fax (907) 556-8340; Email: m.nicolai@kwinhagak.org

L

Larsen Bay, Native Village of, Hannah Gordon, ICWA Specialist, Kodiak Area Native Association, 3449 Rezanof Drive East Kodiak, AK 99615; Phone: (907) 486-1370; Fax: (907) 486-4829; Email: hannah.gordon@kanaweb.org; ICWA@kanaweb.org

Lesnoi Village (see Tangirnaq aka Woody Island) Robert Stauffer, 194 Alimaq Dr., Kodiak, AK 99615; Phone: (907) 486-9806

Levelock Village, Rhea Andrew, Case Worker, ICWA, P.O. Box 70, Levelock, AK 99625; Phone: (907) 287-3023; Fax: (907) 287-3069; Email: levelockicwa@bbna.com; and Bristol Bay Native Association, Children's Services Division Manager, P.O. Box 310, 1500 Kanakanak Road, Dillingham, AK 99576; Phone: (907) 842-4139; Fax: (907) 842-4106; Email: cnixon@bbna.com

Lime Village, Jennifer John, Tribal President, P.O. Box LVD- Lime Village McGrath, AK 99627; Phone: (907) 526-5236; Fax: (907) 526-5235; Email: limevillage@gmail.com and Cheryl Offt, ICWA Director, Association of Village Council Presidents, P.O. Box 219, Bethel, AK 99559; Phone: (907) 543-7461; Fax: (907) 543-5759; Email: cofft@avcp.org

Louden (see Galena)

Lower Kalskag, Village of, Nastasia Evan, ICWA Worker and Natasia Levi, Tribal Administrator, P.O. Box 27 Lower Kalskag, AK 99626; Phone: (907) 471-2412 or (907) 471-2300 Fax: (907) 471-2378 or (907) 471-2378; Email: nevan@avcp.org,lowerklgta@gmail.com and Cheryl Offt, ICWA Director, Association of Village Council Presidents, P.O. Box 219, Bethel, AK 99559; Phone: (907) 543-7461; Fax: (907) 543-5759; Email: cofft@avcp.org

M

Manley Hot Springs Village, Elizabeth Woods, Tribal Family Youth Specialist, P.O. Box 105 Manley Hot Springs, AK 99756; Phone: (907) 672-3177; Fax: (907) 672-3200; and Tanana Chiefs Conference, Legal Department, 122 First Avenue, Suite 600, Fairbanks, AK 99701; Phone: (907) 452-8251 ext. 3178; Fax: (907) 459-3953

Manokotak Village, Diana Gamechuk, Caseworker, ICWA, P.O. Box 169, Manokotak, AK 99628; Phone: (907) 289-2074; Fax: (907) 289-1235; Email: manokotakiccwa@bbna.com and Bristol Bay Native Association, Children's Services Division Manager, P.O. Box 310, 1500 Kanakanak Road, Dillingham, AK 99576; Phone: (907) 842-4139; Fax: (907) 842-4106; Email: cnixon@bbna.com

Marshall Native Village of, Robert Pitka, ICWA Worker & Nick Andrew Jr., Tribal Administrator, P.O. Box 110 Marshall, AK 99585; Phone: (907) 679-6302/6128; Fax: (907) 676-6187; Email: rpitka@avcp.org and Cheryl Offt, ICWA Director, Association of Village Council Presidents, P.O. Box 219, Bethel, AK 99559; Phone: (907) 543-7461; Fax: (907) 543-5759; Email: cofft@avcp.org

Mary's Igloo, Native Village of, Dolly Kugzruk, Tribal Family Coordinator; P.O. Box 629, Teller, AK 99778; Phone: (907) 642-2185; Fax: (907) 642-2189/3000; Email: tfc.tla@kawerak.org; and Ms. Traci McGarry, Program Director, Kawerak, Inc. Children & Family Services, P.O. Box 948 Nome, AK 99762; Phone: (907) 443-4376; Fax: (907) 443-4474; Email: cfsdir@kawerak.org

McGrath Native Village, Helen Vanderpool, Tribal Family Youth Specialist, P.O. Box 134 McGrath, AK 99627; Phone: (907) 524-3023; Fax: (907) 524-3899; Email: helen.vanderpool@tananachiefs.org; and Tanana Chiefs Conference, Legal Department, 122 First Avenue, Suite 600, Fairbanks, AK 99701; Phone: (907) 452-8251 Ext. 3178; Fax: (907) 459-3953

Mekoryuk, Native Village of, Melanie Shavings, ICWA Coordinator & Luke A. Smith, Executive Director, P.O. Box 66 Mekoryuk, AK 99630; Main Phone: (907) 827-8828; ICWA Dept. Phone: (907) 827-8827; Fax: (907) 827-8133; Email: melanie.s@mekoryuktc.org;luke.s@mekoryuktc.org

Mentasta Traditional Council, Andrea David, ICWA Worker & Joelneal Hicks, Tribal Administrator; P.O. Box 6019, Mentasta Lake, AK 99780; Phone: (907) 291-2319; Fax: (907) 291-2305

Metlakatla Indian Community, Darlene Booth, ICWA Worker, P.O. Box 8, Metlakatla, AK 99926; Phone: (907) 886-6914; Fax: (907) 886-6913;

Minto, Native Village of, Lou Ann Williams, Tribal Family Youth Specialist, P.O. Box 26 Minto, AK 99758; Phone: (907) 798-7007; Fax: (907) 798-7008; Email: lou.williams@tananachiefs.org; and Tanana Chiefs Conference, Legal Department, 122 First Avenue, Suite 600, Fairbanks, AK 99701; Phone: (907) 452-8251 ext. 3178; Fax: (907) 459-3953

Mountain Village (see Asa'carsarmiut)

N

Naknek Native Village, Judy Jo Matson, ICWA Coordinator, P.O. Box 210, Naknek, AK 99633; Phone: (907) 246-4210; Fax: (907) 246-3563; Email: nnvc.judyjo@gmail.com

Nanwalek Native Village of, Desiree Swenning, ICWA Advocate, P.O. Box 8028, Nanwalek, AK 99603; Phone: (907) 281-2274; Fax: (907) 281-2252; Email: nanwalekicwa@gmail.com

Napaimute Native Village, Mark Leary, Tribal Administrator, P.O. Box 1301, Bethel, AK 99559; Phone: (907) 543-2887; Email: napaimute@gci.net and Cheryl Offt, ICWA Director, Association of Village Council Presidents, P.O. Box 219, Bethel, AK 99559; Phone: (907) 543-7461; Fax: (907) 543-5759; Email: cofft@avcp.org

Napakiak, Native Village of, Lucy Pavilla, ICWA Worker & David Andrew, Tribal Administrator, P.O. Box 34069 Napakiak, AK 99634; Phone: (907) 589-2815 or (907) 589-2135; Fax: (907) 589-2814 or (907) 589-2136; Email: lpavilla@avcp.org and Cheryl Offt, ICWA Director, Association of Village Council Presidents, P.O. Box 219, Bethel, AK 99559; Phone: (907) 543-7461; Fax: (907) 543-5759; Email: cofft@avcp.org

Napaskiak, Native Village of, Elizabeth Steven, ICWA Worker & Stephen Maxie Jr., Tribal Administrator, P.O. Box 6009 Napaskiak, AK 99559; Phone: (907) 737-7364 or (907) 737-7364; Fax: (907) 737-7039; Email: esteven@avcp.org, smaxie@avcp.org and Cheryl Offt, ICWA Director, Association of Village Council Presidents, P.O. Box 219, Bethel, AK 99559; Phone: (907) 543-7461; Fax: (907) 543-5759; Email: cofft@avcp.org

Nelson Lagoon, Native Village of, Mr. Ozzy E. Escarate, ICWA Representative, Aleutian/Pribilof Islands Association, 1131 East International Airport Road, Anchorage, AK 99518-1408; Phone: (907) 276-2700; Fax: (907) 222-9735; Email: icwa@apiai.org

Nenana Native Association, Jo Noble, Tribal Administrator, P.O. Box 369, Nenana, AK 99760; Phone: (907) 832-5461; Fax: (907) 832-5447; Email: nenanatfys@gmail.com; and Tanana Chiefs Conference, Legal Department, 122 First Avenue, Suite 600, Fairbanks, AK 99701; Fax: (907) 459-3953

New Koliganek Village Council, Herman Nelson Sr., President, P.O. Box 5057, Koliganek, AK 99576; Phone: (907) 596-3434; Fax: (907) 596-3462; Email: newkoliganekadmin@bbna.com and Bristol Bay Native Association, Children's Services Division Manager, P.O. Box 310, 1500 Kanakanak Road, Dillingham, AK 99576; Phone: (907) 842-4139; Fax: (907) 842-4106; Email: cnixon@bbna.com

New Stuyahok Village, Faith Andrew, Case Worker, ICWA, P.O. Box 49 New Stuyahok, AK 99636; Phone: (907) 693-3102; Fax: (907) (907) 693-3179; Email: newstuyahokicwa@bbna.com and Bristol Bay Native Association, Cynthia Nixon, Children's Services Division Manager, P.O. Box 310, 1500 Kanakanak Road, Dillingham, AK 99576; Phone: (907) 842-4139; Fax: (907) 842-4106; Email: cnixon@bbna.com.

Newhalen Village, Maxine Wassillie, ICWA Worker, Joanne Wassillie, Administrator;100 Power Lane Drive; P.O. Box 207, Newhalen, AK 99606; Phone: (907) 571-1410; Fax: (907) 571-1537

Newtok Village, Stanley Tom, Tribal Administrator, P.O. Box 96 Newtok, AK 99559; Phone: (907) 237-2314; Fax: (907) 237-2428

Nightmute, Native Village of, Tribal President & Tribal Administrator, P.O. Box 90021, Nightmute, AK 99690; Phone: (907) 647-6215; Fax: (907) 647-6112

Nikolai Village (aka Edzeno), Elizabeth Paterson, Tribal Family Youth Specialist, P.O. Box 9107 Nikolai, AK99691; Phone: (907) 293-2210; Fax: (907) 293-2216; and Tanana Chiefs Conference, Legal Department, 122 First Avenue, Suite 600, Fairbanks, AK 99701; Phone: (907) 452-8251: Ext.3178; Fax: (907) 459-3953

Nikolski IRA Council, Mr. Ozzy E. Escarate, ICWA Representative, Aleutian/Pribilof Islands Association, 1131 East International Airport Road, Anchorage, AK 99518-1408; Phone: (907) 276-2700; Fax: (907) 222-9735; Email: icwa@apiai.org

Ninilchik Village, Bettyann Steciw, ICWA Specialist, P.O. Box 39444, Ninilchik, AK 99639; Phone: (907) 567-3313; Fax: (907) 567-3354

Noatak, Native Village of, Nanna Patterson, ICWA Coordinator & Herbert Watson, Administrator, P.O. Box 89 Noatak, AK 99761; Phone: (907) 485-2173 Ext. 22; Fax: (907) 485-2137; Email: icwa@nautaaq.org; tribeadmin@nautaaq.org

Nome Eskimo Community, Lola Stepetin, Family Services Director, 3600 San Jeronimo, Suite 138, Anchorage, AK 99508; Phone: (907) 793-3145; Fax: (907) 793-3127; Email: lstepetin@gci.net

Nondalton Village, Susan Bobby, Social Service/ICWA Worker, Fawn Silas, Administrator; P.O. Box 49 Nondalton, AK 99640; Phone: (907) 294-2257; Fax: (907) 294-2271

Noorvik Native Community, Nellie Ballot, ICWA Coordinator, Colleen Hoffman, Administrator, P.O. Box 209 Noorvik, AK, 99763; Phone: (907) 636-2144; Fax: (907) 636-2284; Email: icwa@nuurvik.org; tribeadmin@nuurvik.org and Maniilaq Association, Family Services, P.O. Box 256, Kotzebue, AK 99752; Phone: (907) 442-7870

Northway Village, Tasha Demit, ICWA Worker, P.O. Box 516, Northway, AK 99764; Phone: (907) 778-2311; Fax: (907) 778-2220

Nuiqsut, Native Village of, Maude Hopson, ICWA Coordinator, Social Services Department, Arctic Slope Native Association, Ltd., P.O. Box 1232, Barrow, AK 99723; Phone: (907) 852-9374; Fax: (907) 852-9152; Email: maude.hopson@arcticslope.org

Nulato Native Village of, Brittany Madros, Tribal Family Youth Specialist, P.O. Box 65049, Nulato, AK 99765; Phone: (907) 898-2329; Fax: (907) 898-2207; Email: paul.moutain@tananachiefs.org

Nunakauyarmiut Tribe (formerly Toksook Bay Native Village), Tribal Administrator and Marcella White, ICWA Worker, P.O. Box 37048, Toksook Bay, AK 99637; Phone: (907) 427-7114/7615; Fax: (907) 427-7714

Nunam Iqua, Native Village of, (formerly Sheldon's Point), Darlene Pete, Tribal Administrator, P.O. Box 27, Nunam Iqua, AK 99666,Phone: Office (907) 498-4218; Fax: (907) 498-4185; Email: nunamtribe@gmail.com and Cheryl Offt, ICWA Director, Association of Village Council Presidents, P.O. Box 219, Bethel, AK 99559; Phone: (907) 543-7461; Fax: (907) 543-5759; Email: cofft@avcp.org

Nunapitchuk, Native Village of, Aldine Simon, Community Family Service Specialist, P.O. Box 104 Nunapitchuk, AK 99641; Phone: (907) 527-5731; Fax: (907) 527-5740; Email: nunap.icwa@yuik.org

O

Ohagamiut, Native Village of, Anna Fitka, ICWA Worker & Sophie Tiffert, Tribal Administrator, P.O. Box 49, Marshall, AK 99585; Phone: (907) 679-6517; Fax: (907) 679-6516; Email: afitka@avcp.org,amfitka.amf@gmail.com and Cheryl Offt, ICWA Director, Association of Village Council Presidents, P.O. Box 219, Bethel, AK 99559; Phone: (907) 543-7461; Fax: (907) 543-5759; Email: cofft@avcp.org

Old Harbor Village, Bobbi Anne Barnowsky, Tribal Administrator; P.O. Box 62, Old Harbor, AK 99643; Phone: (907) 286-2315; Fax: (907) 286-2250; Email: bobbi.barnowsky@ohtcmail.org

Organized Village of Grayling, Johanna Hamilton, Tribal Family Youth Specialist, P.O. Box 49, Grayling, AK 99590; Phone: (907) 453-5142; Fax: (907) 453-5146; Email: johannahamilton87@gmail.com; and Tanana Chiefs Conference, Legal Department, 122 First Avenue, Suite 600, Fairbanks, AK 99701; Phone: (907) 452-8251 ext. 3178; Fax: (907) 459-3953

Organized Village of Kake, Ann Jackson, Social Services Director, P.O. Box 316, Kake, AK 99830; Phone: (907) 785-6471; Fax: (907) 785-4902

Organized Village of Kasaan, Cynthia Mills, Family Caseworker II, P.O. Box 173, Klawock, AK 99925; Phone: (907) 755-2326; Fax: (907) 755-2647; Email: cmills@ccthita.org

Organized Village of Kwethluk, Chariton Epchook, ICWA Coordinator, P.O. Box 130 Kwethluk, AK 99621-0130; Phone: (907) 757-6714 or (907) 757-6715; Fax: (907) 757-6328; Email: ovkicwa@gmail.com

Organized Village of Saxman, Family Caseworker or Tribal Administrator, Route 2, Box 2, Ketchikan, AK 99901; Phone: (907) 247-2502; Fax: (907) 247-2504

Orutsararmuit Native Council, Rosemary Paul, ICWA Advocate, P.O. Box 927, Bethel, AK 99559; Phone: (907) 543-2608 Ext. 1520; Fax: (907) 543-2639; Email: rpaul@nativecouncil.org

Oscarville Traditional Village, Andrew J. Larson Jr., ICWA Worker & Michael Stevens, Tribal Administrator, P.O. Box 6129, Oscarville, AK 99559; Phone: (907) 737-7100 or (907) 737-7099; Fax: (907) 737-7101 or (907) 737-7428; Email: alarson@avcp.org, mstevens@avcp.org; and Cheryl Offt, ICWA Director, Association of Village Council Presidents, P.O. Box 219, Bethel, AK 99559; Phone: (907) 543-7461; Fax: (907) 543-5759; Email: cofft@avcp.org

Ouzinkie, Native Village of, Hannah Gordon, ICWA Coordinator, Kodiak Area Native Association, 3449 Rezanof Drive East Kodiak, AK 99615; Phone: (907) 486-1370; Fax: (907) 486-4829; Email: Hannah.gordon@kanaweb.org; ICWA@kanaweb.org

P

Paimiut, Native Village of, Tribal President or Tribal Administrator, P.O. Box 230, Hooper Bay, AK 99604; Phone: (907) 561-9878; Fax: (907) 563-5398

Pauloff Harbor Village, Mr. Ozzy E. Escarate, ICWA Representative, Aleutian/Pribilof Islands Association, 1131 East International Airport Road, Anchorage, AK 99518-1408; Phone: (907) 276-2700; Fax: (907) 222-9735; Email: icwa@apiai.org

Pedro Bay Village, Verna Kolyaha, Program Services, P.O. Box 47020, Pedro Bay, AK 99647; Phone: (907) 850-2341; Fax: (907) 850-2221; Email: vjkolyha@pedrobay.com

Perryville, Native Village of, Bernice O'Domin, Case Worker, ICWA, P.O. Box 97, Perryville, AK 99648; Phone: (907) 853-2242; Fax: (907) 853-2229; Email: perryvilleicwa@bbna.com and Bristol Bay Native Association, Children's Services Division Manager, P.O. Box 310, 1500 Kanakanak Road, Dillingham, AK 99576; Phone: (907) 842-4139; Fax: (907) 842-4106; Email: cnixon@bbna.com

Petersburg Indian Association, Jeanette Ness, ICWA Caseworker, P.O. Box 1410 Petersburg, AK 99833; Phone: (907) 772-3636; Fax: (907) 772-3686; Email: jeanetteness@piatribal.org

Pilot Point Native Village of, Suzanne Evanoff, Administrator, P.O. Box 449, Pilot Point, AK 99649; Phone: (907) 797-2208; Fax: (907) 797-2258; Email: pilotpointadmin@bbna.com and Bristol Bay Native Association, Children's Services Division Manager, P.O. Box 310, 1500 Kanakanak Road, Dillingham, AK 99576; Phone: (907) 842-4139; Fax: (907) 842-4106; Email: cnixon@bbna.com

Pilot Station Traditional Village, Olga Xavier, ICWA Worker & Martin Kelly, Tribal Administrator, P.O. Box 5119, Pilot Station, AK 99650; Phone: (907) 549-3550 or (907) 549-3373; Fax: (907) 549-3551 or (907) 549-3301; Email: oxavier@avcp.org;pstccounicl@pilotstation.org; and Cheryl Offt, ICWA Director, Association of Village Council Presidents, P.O. Box 219, Bethel, AK 99559; Phone: (907) 543-7461; Fax: (907) 543-5759; Email: cofft@avcp.org

Pitka's Point, Native Village of, Karen Thompson, Tribal Administrator, P.O. Box 127, St. Mary's, AK 99658; Phone: (907) 438-2833; Fax: (907) 438-2569 and Cheryl Offt, ICWA Director, Association of Village Council Presidents, P.O. Box 219, Bethel, AK 99559; Phone: (907) 543-7461; Fax: (907) 543-5759; Email: cofft@avcp.org

Platinum Traditional Village, Lou Adams, Tribal Administrator, P.O. Box 8 Platinum, AK 99651; Phone: (907) 979-8220; Fax: (907) 979-8178 and Cheryl Offt, ICWA Director, Association of Village Council Presidents, P.O. Box 219, Bethel, AK 99559; Phone: (907) 543-7461; Fax: (907) 543-5759; Email: cofft@avcp.org

Point Hope, Native Village of, Martha Douglas, Family Caseworker, P.O. Box 109 Point Hope, AK 99766; Phone: (907) 368-2330; Fax: (907) 368-2332; Email: martha.douglas@tikigaq.org

Point Lay, Native Village of, Marie Ahsoak, Social Services Director, Inupiat Community of the Arctic Slope, P.O. Box 934, Barrow, AK 99723; Phone: (907) 852-5923; Fax: (907) 852-5924; Email: social@inupiatgov.com

Port Graham, Native Village of, Patrick Norman, Chief, and ICWA Program, P.O. Box 5510 Port Graham, AK 99603; Phone: (907) 284-2227; Fax: (907) 284-2222

Port Heiden, Native Village of, (Native Council of Port Heiden), Tribal Children Service Worker, P.O. Box 49007, Port Heiden, AK 99549; Phone: (907) 837-2291/2296; Fax: (907) 837-2297

Port Lions, Native Village, Yvonne Mullan, Tribal Family Services Coordinator and Susan Boskofsky, Tribal Administrator, 2006 Airport Road, P.O. Box 69, Port Lions, AK 99550; Phone: (907) 454-2234 or (907) 454-2108; Fax: (907) 454-2985; Email: Yvonne.mullen12@gmail.com, susan.boskofsky@gmail.com

Portage Creek Village (aka Ohgensakale), Eva Kapotak, Caseworker, 1327 E. 72nd Ave., Unit B, Anchorage, AK 99518; Phone: (907) 277-1105; Fax: (907) 277-1104 Email: portagecreekicwa@bbna.com and Bristol Bay Native Association, Children's Services Division Manager, P.O. Box 310, 1500 Kanakanak Road, Dillingham, AK 99576; Phone: (907) 842-4139; Fax: (907) 842-4106; Email: cnixon@bbna.com

Q

Qagan Tayaguyngin Tribe of Sand Point Village, Mr. Ozzy E. Escarate, ICWA Representative, Aleutian/Pribilof Islands Association, 1131 East International Airport Road, Anchorage, AK 99518-1408; Phone: (907) 276-2700; Fax: (907) 222-9735; Email: icwa@apiai.org

Qawalangin Tribe of Unalaska, Mr. Ozzy E. Escarate, ICWA Representative, Aleutian/Pribilof Islands Association, 1131 East International Airport Road, Anchorage, AK 99518-1408; Phone: (907) 276-2700; Fax: (907) 222-9735; Email: icwa@apiai.org

Quinhagak (see Kwinhagak)

Qissunaimut Tribe (see Chevak)

R

Rampart Village, P.O. Box 29 Rampart, AK 99767; Phone: (907) 358-3312; Fax: (907) 358-3115; and Tanana Chiefs Conference, Legal Department, 122 First Avenue, Suite 600, Fairbanks, AK 99701; Phone: (907) 452-8251 ext. 3178; Fax: (907) 459-3953

Red Devil, Native Village of, Tribal Administrator, P.O. Box 27, Red Devil, AK 99656; and Cheryl Offt, ICWA Director, Association of Village Council Presidents, P.O. Box 219, Bethel, AK 99559; Phone: (907) 543-7461; Fax: (907) 543-5759; Email: cofft@avcp.org

Ruby, Native Village of, Elaine Wright, Tribal Family Youth Specialist, P.O. Box 117, Ruby, AK 99768; Phone: (907) 468-4400; Fax: (907) 468-4500; Email: elaine.wright@tananachiefs.org; and Tanana Chiefs Conference, Legal Department, 122 First Avenue, Suite 600, Fairbanks, AK 99701; Phone: (907) 452-8251 ext. 3178; Fax: (907) 459-3953

Russian Mission (see Iqurmuit Native Village)

S

Saint George (see St. George)

Saint Michael (see St. Michael)

Salamatoff, Native Village of, Kalyn Simpson and Rebecca Strong, ICWA Tribal Representatives, Kenaitze Indian Tribe, P.O. Box 988, Kenai, AK 99611; Phone: (907) 335-7200; Fax: (907) 335-7236; Email: ksimpson@kenaitze.org;rstrong@kenaitze.org

Sand Point (see Qagan Tayaguyngin Tribe of Sand Point Village)

Savoonga, Native Village of, Ruthie Okoomealingok, Tribal Family Coordinator, P.O. Box 34 Savoonga, AK 99769; Phone: (907) 984-6758; Fax: (907) 984-6759; Email: tfc.sva@kawerak.org and Ms. Traci McGarry, Program Director, Kawerak, Inc. Children & Family Services, P.O. Box 948 Nome, AK 99762; Phone: (907) 443-4376; Fax: (907) 443-4474; Email: cfsdir@kawerak.org

Saxman (see Organized Village of Saxman)

Scammon Bay, Native Village of, Michelle Akerealrea, ICWA Worker & Bradon Aguchak, Tribal Administrator, P.O. Box 110, Scammon Bay, AK 99662; Phone: (907) 558-5078 or (907) 558-5425; Fax: (907) 558-5079 or (907) 558-5134; Email: makerelrea@avcp.org,admin@marayarmiut.ocm; and Cheryl Offt, ICWA Director, Association of Village Council Presidents, P.O. Box 219, Bethel, AK 99559; Phone: (907) 543-7461; Fax: (907) 543-5759; Email: cofft@avcp.org

Selawik, Native Village of, Jessie Hingsbergen, ICWA Coordinator, Lenora Foxglove, Administrator, P.O. Box 59, Selawik, AK 99770; Phone: (907) 484-2165 or (907) 484-2225; Fax: (907) 424-2001 or (907) 484-2226; Email: icwa@akuligaq.org; tribeadmin@akuligaq.org and Maniilaq Association, Family Services, P.O. Box 256, Kotzebue, AK 99752; Phone: (907) 442-7870

Seldovia Village Tribe, Shannon Custer, ICWA Representative, P.O. Drawer L, Seldovia, AK 99663; Phone: (907) 234-7898 or (907) 435-3252; Fax: (907) 234-7865; Email: scuster@svt.org

Shageluk Native Village, Alana Notti, Tribal Family Youth Specialist, P.O. Box 109, Shageluk, AK 99665; Phone: (907) 473-8229; Fax: (907) 473-8275; Email: Alana.notti@tananachiefs.org; and Tanana Chiefs Conference, Legal Department, 122 First Avenue, Suite 600, Fairbanks, AK 99701; Fax: (907) 459-3953

Shaktoolik, Native Village of, Gail Evan, Tribal Family Coordinator, P.O. Box 100, Shaktoolik, AK 99771; Phone: (907) 955-2444; Fax: (907) 955-2443; Email: tfc.skk@kawerak.org and Ms. Traci McGarry, Program Director, Kawerak, Inc. Children & Family Services, P.O. Box 948 Nome, AK 99762; Phone: (907) 443-4376; Fax: (907) 443-4474; Email: cfsdir@kawerak.org

Sheldon's Point (see Nunam Iqua)

Shishmaref, Native Village of, Karla Nayokpuk, Tribal Family Coordinator, P.O. Box 72110, Shishmaref, AK 99772; Phone: (907) 649-3078; Fax: (907) 649-2278; Email: tfc.shh@kawerak.org; and Ms. Traci McGarry, Program Director, Kawerak, Inc. Children & Family Services, P.O. Box 948 Nome, AK 99762; Phone: (907) 443-4376; Fax: (907) 443-4474; Email: cfsdir@kawerak.org

Shungnak, Native Village of, Sally Custer, ICWA Worker & Glenda Douglas, Administrator, P.O. Box 64 Shungnak, AK 99773; Phone: (907) 437-2163; Fax: (907) 437-2183; Email: sally.custer@issingnak.org; tribeadmin@issingnak.org and Maniilaq Association, Family Services, P.O. Box 256, Kotzebue, AK 99752; Phone: (907) 442-7870

Sitka Tribe of Alaska, Galadriel Morales, Social Services Director, 456 Katlian Street, Sitka, AK 99835; Phone: (907) 747-7293 Fax: (907) 747-7643; Email: glade.morales@sitkatribe-nsn.gov

Skagway Village, Marla Belisle, ICWA Worker, P.O. Box 1157, Skagway, AK 99840; Phone: (907) 983-4068; Fax: (907) 983-3068; Email: stcentrollment@skagwaytraditional.org

Sleetmute, Village of, Cheryl Mellick, ICWA Worker, P.O. Box 109, Sleetmute, AK 99668; Phone: (907) 449-4263; Fax: (907) 449-4265; Email: SLQICWA@hughes.net

Solomon, Village of, Elizabeth Johnson, Tribal Coordinator, P.O. Box 2053, Nome, AK 99762; Phone: (907) 443-4985; Fax: (907) 443-5189; Email: tc.sol@kawerak.org

South Naknek Village, Lorraine Zimin, ICWA Coordinator and Lorianne Rawson, Tribal Administrator, 2521 E. Mountain Village Dr. B. 388, Wasilla, AK 99654; Phone: (907) 631-3648; Fax: (907) 631-0949 and Bristol Bay Native Association, Children's Services Division Manager, P.O. Box 310, 1500 Kanakanak Road, Dillingham, AK 99576; Phone: (907) 842-4139; Fax: (907) 842-4106; Email: cnixon@bbna.com

St. Mary's (see Algaaciq)

St. Mary's Igloo (see Teller)

St. George, Native Village of, Mr. Ozzy E. Escarate, ICWA Representative, Aleutian/Pribilof Islands Association, 1131 East International Airport Road, Anchorage, AK 99518-1408; Phone: (907) 276-2700; Fax: (907) 222-9735; Email: icwa@apiai.org

St. Michael, Native Village of, Shirley Martin, Tribal Family Coordinator, P.O. Box 59050, St. Michael, AK 99659; Phone: (907) 923-2546; Fax: (907) 923- 2474; Email: tfc.smk@kawerak.org; and Ms. Traci McGarry, Program Director, Kawerak, Inc. Children & Family Services, P.O. Box 948 Nome, AK 99762; Phone: (907) 443-4376; Fax: (907) 443-4474; Email: cfsdir@kawerak.org

St. Paul, Pribilof Islands Aleut Community of, Charlene Naulty, M.S., Director, 2050 Venia Minor Road, 1500 W. 33rd Street, Suite 100 Anchorage, AK 99503; and P.O. Box 86 St. Paul Island, AK 99660; Phone: (907) 546-3200 Main & (907) 546-8308 Direct Fax: (907) 546-3254; Email: cjnaluty@aleu.com

Stebbins Community Association, Tribal Family Coordinator, P.O. Box 948, Stebbins, AK 99762; Phone: (907) 934-2334; Fax: (907) 934-2675; Email:tfc.wbb@kawerak.org and Ms. Traci McGarry, Program Director, Kawerak, Inc. Children & Family Services, P.O. Box 948 Nome, AK 99762; Phone: (907) 443-2334; Fax: (907) 443-4474; Email: cfsdir@kawerak.org

Stevens, Native Village of, Cheryl Mayo-Kriska, ICWAWorker, P.O. Box 71372, Stevens Village, AK 99774; Phone: (907) 452-7162; Fax: (907) 478-7229.

Stony River, Native Village of, Mary Willis, Tribal President, P.O. Box SRV Stony River, AK 99557; Phone: (907) 537-3270 or (907) 537-3258; Fax:(907) 537-3254 and Cheryl Offt, ICWA Director, Association of Village Council Presidents, P.O. Box 219, Bethel, AK 99559; Phone: (907) 543-7461; Fax: (907) 543-5759; Email: cofft@avcp.org

Sun'aq Tribe of Kodiak, Linda Resoff, Social Services Director, 312 West Marine Way, Kodiak, AK 99615; Phone: (907) 486-4449; Fax: (907) 486-3361; Email: socialservices@sunaq.org

T

Takotna Village, P.O. Box 7529, Takotna, AK 99675; Phone: (907) 298-2212; Fax: (907) 298-2314; and Tanana Chiefs Conference, Legal Department, 122 First Avenue, Suite 600, Fairbanks, AK 99701; Phone: (907) 452-8251 ext. 3178; Fax: (907) 459-3953

Tanacross, Native Village of, Colleen Denny, Tribal Family Youth Specialist, P.O. Box 76009 Tanacross, AK 99776; Phone: (907) 883-5024; Fax: (907) 883-4497; Email: colleen.denny@tananachiefs.org; and Tanana Chiefs Conference, Legal Department, 122 First Avenue, Suite 600, Fairbanks, AK 99701; Phone: (907) 452-8251 ext. 3178; Fax: (907) 459-3953

Tanana, Native Village of, Donna May Folger, Tribal Family Youth Specialist, P.O. Box 77130 Tanana, AK 99777; Phone: (907) 366-7160; Fax: (907) 366-7195; Email: tananatyfs@gmail.com; and Tanana Chiefs Conference, Legal Department, 122 First Avenue, Suite 600, Fairbanks, AK 99701; Phone: (907) 452-8251 ext. 3178; Fax: (907) 459-3953

Tangirnaq (Lesnoi Village aka Woody Island) Robert Stauffer, 194 Alimaq Dr., Kodiak, AK 99615; Phone: (907) 486-9806.

Tatitlek, Native Village of, Victoria Vlasoff, Tribal Administrator, P.O. Box 171, Tatitlek, AK 99677; Phone: (907) 325-2311; Fax: (907) 325-2289

Tazlina, Native Village of, Marce Simeon, ICWA Coordinator, P.O. Box 87, Glennallen, AK 99588 Phone: (907) 822-4375; Fax: (907) 822-5865; Email: marce@cvinternet.net

Telida Village, Josephine Royal, Tribal Administrator/Tribal Family Youth Specialist, 3131 N. Lazy Eight Ct., Wasilla, Alaska 99654; Phone: (907) 864-0629; Fax: (907) 376-3540; and Tanana Chiefs Conference, Legal Department, 122 First Avenue, Suite 600, Fairbanks, AK 99701; Phone: (907) 452-8251 ext. 3178; Fax: (907) 459-3953

Teller, Native Village of, Dolly Kugzruk, Tribal Family Coordinator; P.O. Box 629, Teller, AK 99778; Phone: (907) 642-2185; Fax: (907) 642-2189/3000; Email: tfc.tla@kawerak.org; and Ms. Traci McGarry, Program Director, Kawerak, Inc. Children & Family Services, P.O. Box 948, Nome, AK 99762; Phone: (907) 443-4376; Fax: (907) 443-4474; Email: cfsdir@kawerak.org

Tetlin, Native Village of, Nettie Warbelow, Tribal Family Youth Specialist, P.O. Box 797, Tok, Alaska 99780; Phone: (907) 883-2021; Fax: (907) 883-1267; Email: nwarbelow@acsalaska.net; and Tanana Chiefs Conference, Legal Department, 122 First Avenue, Suite 600, Fairbanks, AK 99701; Phone: (907) 452-8251 ext. 3178; Fax: (907) 459-3953

Tlingit & Haida Indian Tribes of Alaska (see Central Council Tlingit and Haida Tribes)

Togiak, Traditional Village of, Emma Wasillie, Case Worker, ICWA, P.O. Box 310 Togiak, AK 99678; Phone: (907) 493-5431; Fax: (907) 493-5734; Email: togiakicwa@bbna.com; and Bristol Bay Native Association, Children's Services Division Manager, P.O. Box 310, 1500 Kanakanak Road, Dillingham, AK 99576; Phone: (907) 842-4139; Fax: (907) 842-4106; Email: cnixon@bbna.com

Toksook Bay (see Nunakauyarmiut Tribe)

Tuluksak Native Community, Samantha White, ICWA Worker & Brandon Andrew, Tribal Administrator, P.O. Box 95, Tuluksak, AK 99679; Phone: (907) 695-6902 or (907)695-6420; Fax: (907) 695-6903 or (907)695-6932; and Cheryl Offt, ICWA Director, Association of Village Council Presidents, P.O. Box 219, Bethel, AK 99559; Phone: (907) 543-7461; Fax: (907) 543-5759; Email: cofft@avcp.org

Tuntutuliak, Native Village of, Samantha White, ICWA Worker, Jonthan Pavila, Tribal Administrator, P.O. Box 8086, Tuntutuliak, AK 99680; Phone: (907) 256-2311or (907) 256-2128; Fax: (907) 256-2080; Email: swhite1@avcp.org, dwhite@tuntutuliaktc.org and Cheryl Offt, ICWA Director, Association of Village Council Presidents, P.O. Box 219, Bethel, AK 99559; Phone: (907) 543-7461; Fax: (907) 543-5759; Email: cofft@avcp.org

Tununak, Native Village of, Gregory Charlie, ICWA Worker & James James, Tribal Administrator, P.O. Box 77, Tununak, AK 99681; Phone: (907) 652-6220 or (907)652-6527; Fax: (907) 652-6011; Email: gacharlie@avcp.org; and Cheryl Offt, ICWA Director, Association of Village Council Presidents, P.O. Box 219, Bethel, AK 99559; Phone: 907 543-7461; Fax: (907) 543-5759; Email: cofft@avcp.org

Twin Hills Village Council, Beverly Cano, Administrator, P.O. Box TWA, Twin Hills, AK 99576; Phone: (907) 525-4821; Fax: (907) 525-4822; Email: twinhillsadmin@bbna.com and Bristol Bay Native Association, Children's Services Division Manager, P.O. Box 310, 1500 Kanakanak Road, Dillingham, AK 99576; Phone: (907) 842-4139; Fax: (907) 842-4106; Email: cnixon@bbna.com

Tyonek, Native Village of, Alfred Goozmer, Tribal President and Arthur Standifer, ICWA Worker/Vice President, P.O. Box 82009, Tyonek, AK 99682-0009; Phone: (907) 583-2111 or (907) 583-2209; Fax: (907) 583-2219 or (907) 583-2242

U

Ugashik Village, Irma Joyce Rhodes King, ICWA Worker, 2525 Blueberry Road, Suite 205, Anchorage, AK 99503; Phone: (907) 338-7611; Fax: (907) 338-7659; Email: icwa@ugashikvillage.com

Umkumiut Native Village, Nick Tom, Tribal Administrator, P.O. Box 90062, Nightmute, AK 99690; Phone: (907) 647-6145; Fax: (907) 647-6146 and; and Cheryl Offt, ICWA Director, Association of Village Council Presidents, P.O. Box 219, Bethel, AK 99559; Phone: 907 543-7461; Fax: (907) 543-5759; Email: cofft@avcp.org

Unalakleet, Native Village of, Marie Ivanoff, Tribal Family Coordinator, P.O. Box 357, Unalakleet, AK 99684; Phone: (907) 624-3526; Fax: (907) 624-5104; Email: tfc.unk@kawerak.org; and Ms. Traci McGarry, Program Director, Kawerak, Inc. Children & Family Services, P.O. Box 948, Nome, AK 99762; Phone: (907) 443-4376; Fax: (907) 443-4474; Email: cfsdir@kawerak.org

Unalaska (see Qawalangin Tribe of Unalaska)

Unga Native Village of, Mr. Ozzy E. Escarate, ICWA Representative, Aleutian/Pribilof Islands Association, 1131 East International Airport Road, Anchorage, AK 99518-1408; Phone: (907) 276-2700; Fax: (907) 222-9735; Email: icwa@apiai.org

Upper Kalskag Native Village (see Kalskag),

V

Venetie, Native Village of, Larry Williams, ICWA Worker, P.O. Box 81080, Venetie, AK 99781; Phone: (907) 849-8212; Fax: (907) 849-8216; and Tanana Chiefs Conference, Legal Department, 122 First Avenue, Suite 600, Fairbanks, AK 99701; Phone: (907) 452-8251 ext. 3178; Fax: (907) 459-3953

W

Wainwright, Native Village of, P.O. Box 143, 1212 Airport Road, Wainwright, Alaska, 99782, Phone: (907) 763-2575; Fax: (907) 763-2576 and Maude Hopson, Community & Social Services Division Manager, Arctic Slope Native Association, P.O. Box 29, Barrow, Alaska 99723; Phone: (907) 852-9374; Fax: (907) 852-9152; Email: maude.hopson@arcticslope.org

Wales, Native Village of, Rachel Ozenna, Tribal Family Coordinator, P.O. Box 549, Wales, AK 99783; Phone: (907) 644-2185; Fax: (907) 644-3983; Email: tfc.waa@kawerak.org; Ms. Traci McGarry, Program Director, Kawerak, Inc. Children & Family Services, P.O. Box 948, Nome, AK 99762; Phone: (907) 443-4376; Fax: (907) 443-4474; Email: cfsdir@kawerak.org

White Mountain, Native Village of, Carol Smith, Tribal Family Coordinator, P.O. Box 84090, White Mountain, AK 99784; Phone: (907) 638-2008; Fax: (907) 638-2009; Email: tfc.wmo@kawerak.org and Ms. Traci McGarry, Program Director, Kawerak, Inc. Children & Family Services, P.O. Box 948, Nome, AK 99762; Phone: (907) 443-4376; Fax: (907) 443-4474; Email: cfsdir@kawerak.org

Woody Island (see Lesnoi Village)

Wrangell Cooperative Association, Elizabeth Newman, Family Caseworker II, P.O. Box 1198, Wrangell, AK 99929; Phone: (907) 874-3482; Fax: (907) 874-2982; Email: bnewman@ccthita.org

Y

Yakutat Tlingit Tribe, Gloria A. Benson, ICWA Program, P.O. Box 418, Yakutat, AK 99689; Phone: (907) 784-3368; Fax: (907) 784-3664; Email: gbenson@ytttribe.org

Yupiit of Andreafski, Tribal Administrator, P.O. Box 88, St. Mary's, AK 99658; Phone: (907) 438-2572; Fax: (907) 438-2573 and Cheryl Offt, ICWA Department Director, Association of Village Council Presidents, P.O. Box 219, Bethel, Alaska 99559; Phone: (907) 543-7461; Fax: (907) 843-5759; Email: cofft@avcp.org

2. Eastern Region

Eastern Regional Director, 545 Marriott Drive, Suite 700, Nashville, TN 37214; Phone: (615) 564-6700; Fax: (615) 564-6701

A

Aroostook Band of Micmac Indians, Luke Joseph, ICWA Director, 7 Northern Road, Presque Isle, Maine 04769; Phone: (207) 764-1972; Fax: (207) 764-7667; Email: ljoseph@micmac-nsn.gov

C

Catawba Indian Nation, Linda Love, MSW, LMSW, Social Services Director, Catawba Indian Nation, 996 Avenue of Nations, Rock Hill, South Carolina 29730; Phone: (803) 366-4792, Ext: 281; Fax: (803) 325-1242; Email: Linda.love@catawbaindian.net

Cayuga Nation of New York, Sharon Leroy, Executor, P.O. Box 803, Seneca Falls, NY 13148; Phone: (315) 568-0750; Fax: (315) 568-0752; Email: sharon.leroy@nsncayuganation-nsn.gov

Chitimacha Tribe of Louisiana, Karen Matthews, MSW, LMSW, Director of Health & Human Services, P.O. Box 520, Charenton, LA 70523; Phone: (337) 923-7000; (337) 923-9955 (Health Clinic); Fax: (337) 923-2475; Email: Karen@chitimacha.gov

Coushatta Tribe of Louisiana, Milton Hebert, MSW, CADC, CGAC, Social Service Director, P.O. Box 967, Elton, LA 70532; Phone: (337) 584-1433; Fax: (337) 584-1474; Email: mhebert@coushattatribela.org

E

Eastern Band of Cherokee Indians, Dallas W. Pettigrew, MSW, Family Safety Program Manager, P.O. Box 666, Cherokee, NC 28719; Phone: (828) 359-1520; Fax: (828) 359-0216; Email: dallpett@nc-cherokee.com

H

Houlton Band of Maliseet Indians, Lori Jewell, LMSW/cc, ICWA Director, 13-2 Clover Court, Houlton, ME 04730; Phone: (207) 532-7260 or (207) 694-0213; Fax: (207) 532-7287; Email: ljewell@maliseets.com

J

Jena Band of Choctaw Indians, Mona Maxwell, Social Services Director, P.O. Box 14, Jena, LA 71342; Phone: (318) 992-0136; Cell: (318) 419-8432; Fax: (318) 992-4162; Email: mmaxwell@jenachoctaw.org

M

Mashantucket Pequot Tribal Nation, Valerie Burgess, Director Child Protective Services, 102 Muhshee Mahchaq, P.O. Box 3313, Mashantucket, CT 06338; Phone: (860) 396-2007; Fax: (860) 396-2144; Email: vburgess@mptn-nsn.gov

Mashpee Wampanoag Tribe, Catherine Hendricks, Director, ICWA & Human and Social Services, 483 Great Neck Road, South Mashpee, MA 02649; Phone: (508) 477-0208, Ext: 144; Cell: (774) 255-0119; Fax: (774) 361-6034; Email: catherinehendricks@mwtribe.com

Miccosukee Tribe of Indians of Florida, Colley Billie, Tribal Chairman, P.O. Box 440021, Miami, FL 33144; Phone: (305) 223-8380, Ext. 2377/2386; Fax: (305) 223-1011; Email: Patriciak@miccosukeetribe.com Or Hopel@miccosukeetribe.com

Mississippi Band of Choctaw Indians, Natasha Wesley, Legal Secretary, P.O. Box 6258, Choctaw, MS 39350; Phone: (601) 656-4507; Fax: (601) 656-1357; Email: Natasha.wesley@choctaw.org

Mohegan Indian Tribe, Irene Miller, APRN, Director, Family Services, 5 Crow Hill Road, Uncasville, CT 06382; Phone: (860) 862-6236; Fax: (860) 862-6324

N

Narragansett Indian Tribe, Wenonah Harris, Director, Tribal Child Advocate, 4375B South County Trail or P.O. Box 268, Charlestown, RI 02813; Phone: (401) 824-9034 or (401) 364-1100, Ext: 233 or Ext. 203; Fax: (401) 364-1104; Email: Wenonah@nithpo.com

O

Oneida Indian Nation, Kim Jacobs, Nation Clerk, Box 1, Vernon, NY 13476; Phone: (315) 829-8337; Fax: (315) 829-8392; Email: kjacobs@oneida.nation.org

Onondaga Nation of New York, Mr. Laverne Lyons, 104 W. Conklin Ave., Nedrow, NY 13120; Phone: (315) 469-9196; Fax: (315) 469-3250; Email: lglyons@syr.edu

P

Pamunkey Indian Tribe, Robert Gray, Chief, 191 Lay Landing Rd., King William, VA 23086; Phone: (804) 339-1629; Email: rgray58@hughes.net

Passamaquoddy Tribe at Indian Township, Dorothy A. Barnes, Child Welfare Supervisor, P.O. Box 301, Princeton, ME 04668; Phone: (207) 796-6133; Fax: (207) 796-5606; Email: dot@passamaquoddy.onmicrosoft.com

Passamaquoddy Tribe-Pleasant Point, Frances LaCoute, Social Services Director, 9 Sakom Road, P.O. Box 343, Perry, ME 04667; Phone: (207) 853-2600, Ext: 258; Fax: (207) 853-9618; Email: flacoute@wabanaki.com

Penobscot Indian Nation of Maine, Debi Francis, LMSWcc, Assistant Director of Social Services, 9 Sarah Spring Drive, Indian Island, ME 04468; Phone: (207) 817-7497; Fax: (207) 817-7490; Email: Debi.francis@penobscotnation.org

Poarch Band of Creek Indians, Michealine Deese, Child and Family Welfare Coordinator, 5811 Jack Springs Rd., Atmore, AL 36502; Phone: (251) 368-9136, Ext. 2603; Fax: (251) 368-0828; Email: mdeese@pci-nsn.gov

S

Saint Regis Mohawk Tribe, Jean Square, Interim—ICWA Program Manager, 412 State Route 37, Akwesasne, NY 13655; Phone: (518) 358-2728; Fax: (518) 333-0229; Email: Jean.square@srmt-nsn.gov

Seminole Tribe of Florida, Shamika Patton, Tribal Family & Child Advocacy Compliance & Quality Assurance Manager, 3006 Josie Billie Avenue, Hollywood, FL 33024; Phone: (954) 965-1314; Fax: (954) 965-1304; Email: shamikapatton@semtribe.com

Seneca Nation of Indians, Tracy Pacini, Child and Family Services Program Coordinator, 987 RC Hoag Drive or P.O. Box 500, Salamanca, NY 14779; Phone: (716) 945-5894;

Fax: (716) 945-7881; Email: tracy.pacini@senecahealth.org

Shinnecock Indian Nation, Paula Collins, Attn: CHWP Shinnecock Health Services, P.O. Box 1268, South Hampton, NY 11969; Phone: (631) 287-6476; Fax: (631) 287-6478; paula.collins@shinnecock.org

T

Tonawanda Band of Seneca, Darwin Hill, Chief, Council of Chiefs, 7027 Meadville Road, Basom, NY 14013; Phone: (716) 542-4244; Fax: (716) 542-4008; Email: Tonseneca@aol.com

Tunica—Biloxi Indian Tribe of Louisiana, Evelyn Cass, Registered Social Worker, P.O. Box 493, Marksville, LA 71351; Phone: (318) 240-6444; Fax: (318) 500-3011; Email: ecass@tunica.org

Tuscarora Nation of New York, Chief Leo Henry, Clerk, 206 Mount Hope Road, Lewistown, NY 14092; Phone: (716) 297-1148; Fax: (716) 297-7355

W

Wampanoag Tribe of Gay Head (Aquinnah), Bonnie Chalifoux, Director Human Services, 20 Black Brook Road, Aquinnah, MA 02539; Phone: (508) 645-9265, Ext. 133; Fax: (508) 645-2755; Email: bonnie@wampanoagtribe.net

3. Eastern Oklahoma Region

Eastern Oklahoma Regional Director, P.O. Box 8002, Muskogee, OK 74402-8002; Phone: (918) 781-4600; Fax (918) 781-4604

A

Alabama Quassarte Tribal Town, Annie Merritt, ICWA Director, P.O. Box 187, Wetumka, OK 74883; Phone: (405) 452-2881; Fax: (405) 452-3889; Email: chief@alabama-quassarte.org

C

Cherokee Nation, Nikki Baker-Linmore, Executive Director of Indian Child Welfare, P.O. Box 948, Tahlequah, OK 74465; Phone: (918) 458-6900; Fax: (918) 458-6146; Email: nikki-baker@cherokee.org

The Chickasaw Nation, Angela Connor, Executive Officer Indian Child Welfare, 1401 Hoppe Blvd., Ada, OK 74820; Phone: (580) 272-5550; Fax: (580) 272-5553; Email: angela.connor@chickasaw.net

Choctaw Nation of Oklahoma, Lari Brister, Senior Director, Children & Family Services, P.O. Box 1210, Durant, OK 74701; Phone: (580) 924-8280; Fax: (580) 920-3197; Email: lbrister@choctawnation.com

D

Delaware Tribe of Indians, Sasheen Reynolds, Indian Child Welfare Director, 5100 Tuxedo Blvd., Bartlesville, OK 74003; Phone: (918) 337-6520; Fax: (918) 337-6540; Email: sreynolds@delawaretribe.org

E

Eastern Shawnee Tribe of Oklahoma, Tamara Gibson, Indian Child Welfare Director, 10100 S. Bluejacket, Wyandotte, OK 74370; Phone: (918) 666-7710, ext. 1123; Fax: (918) 666-7716; Email: tgibson@estoo.net

K

Kialegee Tribal Town, Angie Beaver, ICW Director, P.O. Box 332, Wetumka, OK 74883; Phone: (405) 452-5388; Fax: (405) 452-3413; Email: angie.beaver@kialegeetribe.net

M

Miami Tribe of Oklahoma, Jan Grant, Social Services Director, P.O. Box 1326, Miami, OK 74355; Phone: (918) 541-1381; Fax: (918) 540-2814; Email: Jgrant@miamination.com

Modoc Tribe of Oklahoma, Regina Shelton, Child Protection, 625 6th SE., Miami, OK 74354; Phone: (918) 542-7890; Fax: (918) 542-7878; Email: modoc.ccdf@yahoo.com

Muscogee (Creek) Nation, George Tiger, Principal Chief, P.O. Box 580, Okmulgee, OK 74447; Phone: (918) 732-7604; Fax: (918) 758-1434; Email: gtiger@mekkotiger.com

O

Osage Nation, Ann Davis, Social Work Supervisor, 255 Senior Drive, Pawhuska, OK 74056; Phone: (918) 287-5218; Fax: (918) 287-5231; Email: edavis@osagenation-nsn.gov

Ottawa Tribe of Oklahoma, Roy A. Ross, Tribal Social Services, P.O. Box 110, Miami, OK 74355; Phone: (918) 540-2377; Fax: (918) 542-3214; Email: rross.oto@gmail.com

P

Peoria Tribe of Indians of Oklahoma, Doug Journeycake, Indian Child Welfare Director, P.O. Box 1527, Miami, OK 74355; Phone: (918) 540-2535; Fax: (918) 540-2538; Email: djourneycake@peoriatribe.com

Q

Quapaw Tribe of Oklahoma, John Berrey, Chairperson, P.O. Box 765, Quapaw, OK 74363; Phone: (918) 542-1853; Fax: (918) 542-4694; Email: jberrey@ogahpah.com

S

Seminole Nation of Oklahoma, Tracy Haney, Director, Indian Child Welfare, P.O. Box 1498, Wewoka, OK 74884; Phone: (405) 257-9038; Fax: (405) 257-9036; Email: walker.j@sno-nsn.gov

Seneca-Cayuga Tribe of Oklahoma, Indian Child Program, 23701 South 655 Road, Grove, OK 74344; Phone: (918) 787-5452, ext. 19; Fax: (918) 787-5521

Shawnee Tribe, Jodi Hayes, Tribal Administrator, P.O. Box 189, Miami, OK 74355-0189; Phone: (918) 542-2441; Fax: (918) 542-2922; Email: shawneetribe@shawnee-tribe.com

T

Thlopthlocco Tribal Town, Melinda Noon, Manager, P.O. Box 188, Okemah, OK 74859; Phone: (918) 560-6198; Fax: (918) 623-3023; Email: mnoon@tttown.org

U

United Keetoowah Band of Cherokee Indians in Oklahoma, Joyce Fourkiller-Hawk, Tribal Secretary, P.O. Box 746, Tahlequah, OK 74465; Phone: (918) 456-5126; Fax: (918) 453-9345; Email: Jfourkiller@unitedkeetoowahband.org

W

Wyandotte Nation, Tara Gragg, Social Worker, 64700 E. Hwy 60, Wyandotte, OK 74370; Phone: (918) 678-2297; Fax: (918) 678-3087; Email: tgragg@wyandotte-nation.org

4. Great Plains Region

Great Plains Regional Director, 115 4th Avenue SE., Aberdeen, SD 57401; Phone: (605) 226-7343; Fax: (605) 226-7446

C

Cheyenne River Sioux Tribe—Lakota, Ms. Diane Garreau, Indian Child Welfare Act Program Director, P.O. Box 590, Eagle Butte, SD 57625; Phone: (605) 964-6460; Fax: (605) 964-6463; Email: Dgarreau@hotmail.com

Crow Creek Sioux Tribe—Lakota, Marlow Medicine Crow, Jr., ICWA Specialist, Project Safe, P.O. Box 49, Fort Thompson, SD 57339; Phone: (605) 245-2471; Fax: (605) 245-2737; Email: marlow.wiconi@gmail.com

F

Flandreau Santee Sioux Tribe-Dakota, Jessica Morson, ICWA Administrator, Flandreau Santee Sioux Tribal Social Services, P.O. Box 283, Flandreau, SD 57028; Phone: (605) 997-5055; Fax: (605) 997-3694; Email: jessica.morrison@fsst.org

L

Lower Brule Sioux Tribe—Lakota, Ellen Durkin, Director, P.O. Box 244, Lower Brule, SD 57548; Phone: (605) 473-5514; Fax: (605) 473-0199; Email: ellendurkin@lowerbrule.net

O

Oglala Sioux Tribe—Lakota, Emily Iron Cloud-Koenen, ICWA Administrator, Oglala Sioux Tribe—ONTRAC, P.O. Box 2080, Pine Ridge, SD 57770; Phone: (605) 867-5865; Fax: (605) 867-1893

Omaha Tribe of Nebraska, Raquel Morris, Director, Omaha Tribe of Nebraska, Child Protection Services, P.O. Box 444, Macy, NE 68039; Phone: (402) 837-5287; Fax: (402) 837-5275; Email: raquel.morris@omahatribe.com

P

Ponca Tribe of Nebraska—Lakota, Jill Holt, ICWA Specialist, Ponca Tribe of Nebraska Social Services, 2602 J Street Omaha, NE 68107; Phone: (402) 734-5275; Fax: (402) 734-5708

R

Rosebud Sioux Tribe, Shirley J. Bad Wound, ICWA Specialist, Rosebud Sioux Tribe ICWA Program, P.O. Box 609, Mission, SD 57555; Phone: (605) 856-5270; Fax: (605) 856-5268

S

Santee Sioux Nation—Dakota, Carla Cheney, ICWA Specialist, Santee Sioux Tribe of Nebraska, Dakota Tiwahe Social Services Program, Route 2, Box 5191, Niobrara, NE 68760; Phone: (402) 857-2342; Fax: (402) 857-2361; Email: carla.cheney@nebraska.gov

Sisseton-Wahpeton Oyate Tribe—Dakota, Evelyn Pilcher, ICWA Director, P.O. Box 509 Agency Village, SD 57262; Phone: (605) 698-3992; Fax: (605) 698-3999; Email: evelyn.pilcher@state.sd.us

Spirit Lake Tribe—Dakota, Chuck Sanderson, ICWA Director, Spirit Lake Tribal Social Services, P.O. Box 356, Fort Totten, ND 58335; Phone: (701) 766-4855 ext. 5; Fax: (701) 766-4273; Email: slticwadir@spiritlakenation.com

Standing Rock Sioux Tribe—Lakota, Raquel Franklin, ICWA Director, Standing Rock Sioux Tribe ICWA, P.O. Box 770, Fort Yates, ND 58538; Phone: (701) 854-3095; Fax: (701) 854-5575; Email: rfranklin@standingrock.org

T

Three Affiliated Tribes (Mandan, Arikara & Hidatsa), Katherine Felix, ICWA Specialist, 404 Frontage Drive, New Town, ND 58763; Phone: (701) 627-8168; Fax: (701) 627-4225; Email: kfelix@mhanation.com

Turtle Mountain Band of Chippewa Indians, Marilyn Poitra, ICWA Coordinator, Child Welfare and Family Services, P.O. Box 900 Belcourt, ND 58316; Phone: (701) 477-5688; Fax: (701) 477-5797; Email: marilynp@tmcwfs.net

W

Winnebago Tribe of Nebraska, Candace Payer, ICWA Specialist, ICWA Program, P.O. Box 723, Winnebago, NE., 68071; Phone: (402) 878-2378; Fax: (402) 878-2228; Email: candace.payer@winnebagotribe.com

Y

Yankton Sioux Tribe—Nakota, Melissa Sanchez-Chrans, ICWA Director, Yankton Sioux Tribe ICWA Department, P.O. Box 1153, Wagner, SD 57361; Phone: (605) 384-5712; Fax: (605) 384-5014

5. Midwest Region

Midwest Regional Director, 5600 West American Blvd., Suite 500, Norman Pointe II Building, Bloomington, MN 55437; Phone: (612) 725-4500; Fax: (612) 713-4401

B

Bad River Band of Lake Superior Chippewa, Gina Secord, Abinoojiyag Resource Center Program Manager, P.O. Box 55, Odanah, WI 54861; Phone: (715) 682-7135 Ext: 3; Fax: (715) 682-7883; Email: ARCMgr@badriver-nsn.gov

Bay Mills Indian Community, Phyllis Kinney, Tribal Court Administrator, 12140 W. Lakeshore Dr., Brimley, MI 49715; Phone: (906) 248-3241; Fax: (906) 248-5817; Email: phyllisk@baymills.org

Bois Forte Reservation Business Committee, Angela Wright, Indian Child Welfare Supervisor, 13071 Nett Lake Road Suite A, Nett Lake, MN 55771; Phone: (218) 757-3295; Fax: (218) 757-3335; Email: amwright@boisforte.nsn.gov

F

Fond du Lac Reservation Business Committee, Karen Diver, Chairwoman, 1720 Big Lake Road, Cloquet, MN 55720; Phone: (218) 879-4593; Fax: (218) 879-4146; Email: karendiver@fdlrez.com

Forest County Potawatomi Community of Wisconsin, Abbey Lukowski, Family Services Division Director, 5415 Everybody's Road, Crandon, WI 54520; Phone: (715) 478-4812; Fax: (715) 478-7442; Email: Abbey.lukowski@fcpotawatomi-nsn.gov

G

Grand Portage Reservation Business Center, Roger Linehan, Human Service Director, P.O. Box 428, Grand Portage, MN 55605; Phone: (218) 475-2453; Fax: (218) 475-2455; Email: rlinehan@grandportage.com

Grand Traverse Band of Ottawa and Chippewa Indians, Helen Cook, Anishinaabek Family Services Supervisor, 2605 N. West Bayshore Drive, Peshawbestown, MI 49682-9275; Phone: (231) 534-7681; Fax: (231) 534-7706; Email: helen.cook@gtbindians.com

H

Hannahville Indian Community of Michigan, Jessica Brock, ICWA Worker, N15019 Hannahville B1 Road, Wilson, MI 49896; Phone: (906) 723-2514; Fax: (906) 466-7397; Email: Jessica.brock@hichealth.org

The Ho-Chunk Nation, ICWA Supervisor, P.O. Box 40, Black River Falls, WI 54615; Phone: (715) 284-2622; Fax: (715) 284-0097; Email: ICW@ho-chunk.com

Nottawaseppi Huron Band of the Potawatomi, Meg Fairchild, LMSW, CAAC, Clinical Social Worker, 1474 Mno Bmadzewen Way, Fulton, MI 49052; Phone: (269) 729-4422; Fax: (269) 729-4460; mail: socialwpc@nhbp.org

K

Keweenaw Bay Indian Community, Judith Heath, Director Social Services, 16429 Bear Town Road, Baraga, MI 49908; Phone: (906) 353-4201; Fax: (906) 353-8171; Email: judy@kbic-nsn.gov

L

Lac Courte Oreilles, LuAnn Kolumbus, Tribal Social Services Director, 13394 W. Trepania Road, Hayward, WI 54843; Phone: (715) 634-8934 ext. 7435; Fax: (715) 634-2981; Email: lcoicw@nsn.gov

Lac du Flambeau, Kristin Allen, ICW Director, P.O. Box 216, Lac du Flambeau, WI 54538; Phone: (715) 588-4275; Fax: (715) 588-3855; Email: ldficw@ldftribe.com

Lac Vieux Desert, Dee Dee McGeshick, Social Services Director, Marisa Vanzile, ICW Caseworker, P.O. Box 249, Watersmeet, MI 49969; Phone: (906) 358-4940; Fax: (906) 358-4900; Email: dee.mcgeshick@lvdtribal.com

Leech Lake Band of Ojibwe, Laurie Chase, Child Welfare Director, 190 Sailstar Drive NE., Cass Lake, MN 56633; P.O. Box 967, Cass Lake, MN 56633; Phone: (218) 335-8270; Fax: (218) 335-3768; Email: laurie.chase@llojibwe.com

Little River Band of Ottawa Indians, William Gregory, Tribal Prosecutor, 3031 Domres Road, Manistee, MI 49660; Phone: (213) 398-2242; Cell: (616) 490-3300; Fax: (231) 398-3404; Email: bgregory@lrboi.com

Little Traverse Bay Bands, Denneen Smith, Human Services Director, 7500 Odawa Circle, Harbor Springs, MI 49740; Phone: (231) 242-1620; Fax: (213) 242-1635; Email: dmsmith@ltbbodawa-nsn.gov

Lower Sioux, Reanna Jacobs, ICWA Advocate, Darin Prescott, Director, 39568 Reservation Highway 1, Morton, MN 56270; Phone: (507) 697-9108; Fax: (507) 697-9111; Email: reanna.jacobs@lowersioux.com

M

Match-E-Be-Nash-She-Wish Band of Potawatomi Indians of Michigan (Gun Lake Tribe), SarahJane Watrous, LMSW Human Services Coordinator, 2880 Mission Dr., Shelbyville, MI 49344; Phone: (616) 681-0360, Ext: 1108; Fax: (269) 397-1763; Email: Sarahjane.Watrous@hhs.glt-nsn.gov

Menominee Indian Tribe of Wisconsin, Mary Husby, Director of Social Services, Carol Corn—Acting Director of Social Services, P.O. Box 520, Keshena, WI 54135; Phone: (715) 799-5161; Fax: (715) 799-6061; Email: mhusby@mitw.org; ccorn@mitw.org

Mille Lacs Band of Ojibwe, Mishelle Ballinger, Administrative Case Aid—Family Services, 17230 Noopiming Drive, Onamia, MN 56359; Phone: (320) 532-7776; Fax: (320) 532-7583; Email: mishelle.ballinger@hhs.millelacsband-nsn.gov

Minnesota Chippewa Tribe, Linda Johnston, Human Services Director, P.O. Box 217, Cass Lake, MN 56633; Phone: (218) 335-8586; Fax: (218) 335-8080; Email: ljohnston@mnchippewatribe.org

O

Oneida Tribe of Indians of Wisconsin, Heather Lee, ICWA Supervisor, Attn: Children and Family Services, P.O. Box 365, Oneida, WI 54155; Phone: (920) 490-3724; Fax: (920) 490-3820; Email: icw@oneidanation.org

P

Pokagon Band of Potawatomi Indians, Mark Pompey, Social Services Director, 58620 Sink Road, Dowagiac, MI 49047; Phone: (269) 782-8998; Fax: (269) 782-4295; Email: mark.pompey@pokagonband-nsn.gov

Prairie Island Indian Community Mdewakanton Dakota Sioux of Minnesota, Renae Wallace, Family Service Manager, 5636 Sturgeon Lake Road, Welch, MN 55089; Phone: (651) 385-4185; Fax: (651) 385-4183; Email: rwallace@piic.org

R

Red Cliff Band of Lake Superior Chippewa, Chally Topping-Thompson, Indian Child Welfare Director, 88385 Pike Road, Highway 13, Bayfield, WI 54814; Phone: (715) 779-3785; Fax: (715) 779-3783; Email: chally.topping-thompson@redcliff-nsn.gov

Red Lake Band of Chippewa Indians, Cheri Goodwin, Executive Director-Family & Children Services, P.O. Box 427, Red Lake, MN 56671; Phone: (218) 679-2122; Fax: (218) 679-1665; Email: cheri.goodwin@redlakenation.org

S

Sac & Fox Tribe of the Mississippi in Iowa—Meskwaki, Mylene Wanatee, Meskwaki Family Services Director, P.O. Box 245, 349 Meskwaki Road, Tama, IA 52339; Phone: (641) 484-4444 Fax: (641) 484-2103; Email: recruiter.mfs@meskwaki-nsn.gov

Saginaw Chippewa Indians of MI, Attn: ICWA Director, 7070 East Broadway, Mt. Pleasant, MI 48858; Phone: (989) 775-4909; Fax: (989) 775-4912

Sault Ste. Marie Tribe of Chippewa Indians, Juanita Bye, ACFS Division Director, 2218 Shunk Rd, Sault Ste. Marie, MI 49783; Phone: (906) 632-5250; Fax: (906) 632-5266; Email: jbye@saulttribe.net

Shakopee Mdewakanton Sioux Community, Karen Ross-ICWA Representative, 2330 Sioux Trail NW., Prior Lake, MN 55372; Phone: (952) 445-8900 or (952) 496-6112; Fax: (952) 445-8906

Sokaogon Chippewa Community of Wisconsin, Amanda Vanzile, Director Family Services, 10808 Sokaogon Drive, Crandon, WI 54520; Phone: (715) 478-3265; Fax: (715) 478-7618; Email: amanda.vanzile@scc-sns.gov

St. Croix Chippewa Indians of Wisconsin, Erin Fowler, Indian Child Welfare Director, 24670 State Road 35/70, Suite 800, Siren, WI 54872; Phone: (715) 349-2195 ext. 5339; Fax: (715) 349-8665; Email: erinf@stcroixtribalcenter.com

Stockbridge Munsee Community, Teresa Juga, ICWA Manager, Stockbridge Munsee Health and Wellness Center, W12802 County A, Bowler, WI 54416; Phone: (715) 793-4580; Fax: (715) 793-1312; Email: teresa.juga@mohican.com

U

Upper Sioux Community of Minnesota, Lynette Tellinghuisen, ICWA Manager, P.O. Box 147, 5744 Hwy. 67, Granite Falls, MN 56241; Phone: (320) 564-6315; Fax: (320) 564-2550; Email: linettet@uppersiouxcommunity-nsn.gov

W

White Earth Indian Child Welfare, Laurie York, Program Director, P.O. Box 358, White Earth, MN 56591; Phone: (218) 983-4647; Fax: (218) 983-3712; Email: laurie.york@whiteearth-nsn.gov

6. Navajo Region

Navajo Regional Director, Navajo Regional Office, P.O. Box 1060, Gallup, NM 87305; Phone: (505) 863-8314; Fax: (505) 863-8324

N

Navajo Nation, Regina Yazzie, MSW, Director, Navajo Children and Family Services (ICWA), P.O. Box 1930, Window Rock, AZ 86515; Phone: (928) 871-6806; Fax: (928) 871-7667; Email: reginayazzie@navajo-nsn.gov

7. Northwest Region

Northwest Regional Director, 911 NE. 11th Avenue, Portland, OR 97232; Phone: (503) 231-6702; Fax (503) 231-2201

B

Burns Paiute Tribe, Michelle Bradach, Social Service Director, 100 Pasigo Street, Burns, OR 97720; Phone: (541) 573-8043; Fax: (541) 573-4217; Email: bradachma@burnspaiute-nsn.gov

C

Confederated Tribes of the Chehalis Reservation, Tracy Bray, Family Services Director, 420 Howanut Road, Oakville, WA 98568; Phone: (360) 709-1871; Fax: (360) 273-5207; Email: tbray@chehalistribe.org

Confederated Tribes of the Colville; Preston Boyd, Children and Family Services Director, P.O. Box 150, Nespelem, WA 99155-011; Phone: (509) 634-2774; Cell: (509) 322-2328; Fax: (509) 634-2633; Email: Preston.boyd@colvilletribes.gov

Coeur d'Alene Tribe, Sharon Randle, Indian Child Welfare Manager, P.O. Box 408, Plummer, ID 83851; Phone: (208) 686-2071; Fax: (208) 686-2059; Email: Srandle@cdatribe-nsn.gov

Confederated Salish & Kootenai Tribes, Patricia Courchane, IVE/IVB/ICWA Program Manager, P.O. Box 278, Pablo, MT 59855; Phone: (406) 675-2700 Ext. 1184; Fax: (406) 275-2749; Email: Patricia.Courchane@cskt.org

Confederated Tribes of Coos, Lower Umpqua, & Siuslaw Indians, Vicki Faciane, Health & Human Services Director, P.O. Box 3279, Coos Bay, OR 97420; Phone: (541) 888-7515; Fax: (541) 888-1027; Email: VFaciane@ctclusi.org

Confederated Tribes of the Grande Ronde Community of Oregon, Dana Ainam, ICWA Contact, 9615 Grand Ronde Road, Grand Ronde, OR 97347-0038; Phone: (503) 879-2034; Fax: (503) 879-2142

Confederated Tribes of the Umatilla Indian Reservation, M. Brent Leonhard, Attorney, 46411 Timine Way, Pendleton, OR 97801; Phone: (541) 429-7406; Fax: (541) 429-7402; Email: brentleonhard@ctuir.org

Coquille Indian Tribe, Roni Jackson, ICWA Caseworker, 600 Miluk Drive, P.O. Box 3190, Coos Bay, OR 97420; Phone: (541) 888-9494, Ext. 2219; Fax: (541) 888-0673; Email: ronijackson@coquilletribe.org

Cow Creek Band of Umpqua Tribe of Indians, Andrea Davis, Human Services Director, ICWA Specialist, 2371 NE Stephens Street, Roseburg, OR 97470; Phone: (541) 677-5575; Fax: (541) 677-5565; Email: adavis@cowcreek.com

Cowlitz Indian Tribe, Mike Yates, ICWA Director, P.O. Box 2547, Longview, WA 98632-8594; Phone: (360) 577-8140; Fax: (360) 577-7432

H

Hoh Indian Tribe, Maria S. Lopez, Hoh Tribe Chairwoman, P.O. Box 2196, Forks, WA 98331; Phone: (360) 374-3271; Fax: (360) 374-5426; Email: marial@hohtribe-nsn.org

J

Jamestown S'Klallam Tribe, Sue A. Mapes, Social and Community Services (ICW) Supervisor, 1033 Old Blyn Hwy., Sequim, WA 98382; Phone: (360) 681-4660 or (360) 683-1109; Fax: (360) 681-3402; Email: smapes@jamestowntribe.org

K

Kalispel Tribe of Indians, Wendy Thomas, MSW, Social Services Director, 934 S. Garfield Road, Airway Heights, WA 99001; Phone: (509) 789-7630; Fax: (509) 789-7675; Email: wthomas@camashealth.com

The Klamath Tribes, Misty Barney, Child Welfare Program Manager; Candi Crume,Child Protective Specialist; Jim Collins, ICW Specialist; Lisa Ruiz, Child Welfare Caseworker; P.O. Box 436, Chiloquin, OR 97624; Phone: (541) 783-2219; Fax: (541) 783-7783; Email: misty.barney@klamathtribes.com; Candi.kirk@klamathtribes.com; jim.collins@klamathtribes.com; Lisa.ruiz@klamathtribes.com.

Kootenai Tribal Council, Velma Bahe, ICWA Contact, P.O. Box 1269, Bonners Ferry, ID 83805-1269; Phone: (208) 267-8451

L

Lower Elwha Tribal Community Council, Patricia Elofson, ICWA Contact, 2851 Lower Elwha Road, Port Angeles, WA 98363-9518; Phone: (360) 452-8471; Fax: (360) 457-8429

Lummi Nation, Sarah Cook, Child Welfare Director, Kim Goesbehind, ICWA Intervention/Prevention Supervisor, Robert Ludgate Leader Social Services Worker, P.O. Box 1024, Ferndale, WA 98248; Phone: (360) 384-2324; Fax: (360) 384-2341

M

Makah Indian Tribal Council, Robin Denney, Social Services Manager or Vanessa Castle, ICW Caseworker, P.O. Box 115, Neah Bay, WA 98357; Phone: (360) 645-3251/3257; Fax: (360) 645-2806

Metlakatla Indian Community, Metlakatla Indian Community (Northwest Region), Craig H. White, Director, P.O. Box 8, Metlakatla, AK 99926; Phone: (907) 886-6914; Fax: (907) 886-6913

Muckleshoot Indian Tribe, Human Services Division Director, 39015 172nd Avenue SE., Auburn, WA 98092; Phone: (253) 939-3311; Fax: (253) 876-3095

N

Nez Perce Tribe, Jeanette Pinkham, LSW, MSW, Indian Child Welfare Social Worker II, 271 B Street, P.O. Box 365, Lapwai, ID 83540; Phone: (208) 843-7302, Ext. 4666; Fax: (208) 843-9401; Email: jeanettep@nezperce.org

Nisqually Indian Tribe, Lorraine Van Brunt, Child and Family Services, Chrystal Byrd, Lead Caseworker, 4820 She-Nah-Num Drive SE., Olympia, WA 98513; Phone: (360) 456-5221; Fax: (360) 486-9555; Email: byrd.chrystal@nisqually-nsn-gov

Nooksack Indian Tribe of Washington, Ken Levinson, ICW Program Manager 5061 Deming Road, Deming, WA 98244; Phone: (360) 306-5090; Fax: (360) 306-5099; Email: klevinson@nooksack-nsn.gov

Northwestern Band of Shoshoni Nation, Patty Timbimboo, Enrollment Department, 707 North Main, Brigham City, Utah 84302; Phone: (435) 734-2286; Fax: (435) 734-0424; Email: ptimbimboo@nwbshoshone.com

P

Port Gamble S'Klallam, Cheryl Miller, Children and Family Community Services Director, 31912 Little Boston Road NE., Kingston, WA 98346; Phone: (360) 297-9665; Fax: (360) 297-9666; Email: cmiller@pgst.nsn.us

Puyallup Tribe, Sandra Cooper/Drew Wilson, ICWA Liaisons, 3009 E. Portland Avenue, Tacoma, WA 98404; Phone: (253) 405-7544 or (253) 358-0431; Fax: (253) 680-5769; Email: Sandra.Cooper@puyalluptribe.com; DrewWilson@puyalluptribe.com

Q

Quileute Tribal Council, Bonita Cleveland, Tribal Chair, P.O. Box 279, LaPush, WA 98350; Phone: (360) 374-6155; Fax: (360) 374-6311; Email: bonita.cleveland@quileutenation.org

Quinault Indian Nation, Evelyn Long, Family Services Supervisor, P.O. Box 189, Taholah, WA 98587; Phone: (360) 276-8215 Ext. 355; Cell: (360) 590-1933; Fax: (360) 276-4152; Email: elong@quinault.org

S

Samish Indian Nation, Robert Ludgate, Samish Nation Social Services, Family Services Specialist, P.O. Box 217, Anacortes, WA 98221; Phone: (360) 899-5282; Fax: (360) 299-4357; Email: rludgate@samishtribe.nsn.us

Sauk-Suiattle Indian Tribe, Rhonda Metcalf, ICW Director/General Manager, 5318 Chief Brown Lane, Darrington, WA 98241; Phone: (360) 436-1351; Fax: (360) 436-1511

Shoalwater Bay Indian Tribe, Katherine Horne, Director, Social Services, P.O. Box 130, Tokeland, WA 98590; Phone: (360) 267-6766 Ext. 8134; Fax: (360) 267-0247; Email: khorne@shoalwaterbay-nsn.gov

Shoshone Bannock Tribe, Brandelle Whitworth, Tribal Attorney, P.O. Box 306, Ft. Hall, ID 83203; Phone: (208) 478-3923; Fax: (208) 237-9736; Email: bwitworth@sbtribes.com

Confederated Tribes of Siletz Indians, Cathern Tufts, Staff Attorney, P.O. Box 549, Siletz, OR 97380; Phone: (541) 444-8324; Fax: (541) 444-2307; Email: cathernt@ctsi.nsn.us

Skokomish Indian Tribe, Linda Charrette or Alretta Howard, ICWA Caseworker, N. 80 Tribal Center Road, Shelton, WA 98584-9748; Phone: (360) 426-7788; Fax: (360) 877-2151; Email: ahoward@skokomish.org

Snoqualmie Tribe, Marilee Mai, ICW Program Manager, P.O. Box 96, Snoqualmie, WA 98045; Phone: (425) 888-6551 Ext. 6235

Spokane Tribe of Indians, Tawhnee Colvin, Program Manager/Case Manager, P.O. Box 540, Wellpinit, WA 99040; Phone: (509) 258-7502; Fax: (509) 258-7029; Email: tawhneec@spokanetribe.com

Squaxin Island Tribe, Donald Whitener, Tribal Administrator, 10 SE. Squaxin Lane, Shelton, WA 98584-9200; Phone: (360) 432-3900; Fax: (360) 426-6577; Email: dwhitener@squaxin.us

Stillaguamish Tribe of Indians, Gloria Green, ICW Director, P.O. Box 3782 or 17014 59th Ave. NE., Arlington, WA 98223; Phone: (360) 435-3985 Ext. 21; Fax: (360) 435-2867

Suquamish Indian Tribe of the Port Madison Reservation, Dennis Deaton, ICWA Contact, P.O. Box 498, Suquamish, WA 98392; Phone: (360) 394-8478; Fax: (360) 697-6774 Swinomish Indians, Tracy Parker, Swinomish Family Services Coordinator, 17337 Reservation Rd., LaConner, WA 98257; Phone: (360) 466-7222; Fax: (360) 466-1632; Email: tparker@swinomish.nsn.us

T

Tulalip Tribe, Jennifer Walls, Lead ICW Worker, Roberta Hillaire, ICW Manager; 2828 Mission Hill Road, Tulalip, WA 98271; Phone: (360) 716-3284; Fax: (360) 716-0750; Email: jwalls@tulaliptribe-nsn.gov; or rhallaire@tulaliptribe-nsn.gov

U

Upper Skagit Indian Tribe, Felice Keegahn, Indian Child Welfare Coordinator, 25959 Community Plaza Way, Sedro Woolley, WA 98284; Phone: (360) 854-7077; Fax: (360) 854-7125; Email: felicek@upperskagit.com

W

Confederated Tribes of Warm Springs Reservation of Oregon, Lisa Lomas, Associate Judge, P.O. Box 850, Warm Springs, OR 97761; Phone: (541) 553-3287; Fax: (541) 553-3281

Y

Confederated Tribes and Bands of the Yakama Nation, Janice Howe, ICW Manager, P.O. Box 151, Toppenish, WA 98948; Phone: (509) 865-5121 Ext: 4878; Fax: (509) 865-6869; Email: jhowe@yakama.com

8. Pacific Region

Pacific Regional Director, BIA, Federal Building, 2800 Cottage Way, Room W-2820, Sacramento, CA 95825; Phone: (916) 978-6000; Fax: (916) 978-6099

A

Agua Caliente Band of Cahuilla Indians, John T. Plata, General Counsel, 5401 Dinah Shore Drive Palm Springs, CA 92264; Phone: (760) 669-6837; Fax: (760) 699-6863; Email: jplata@aguacaliente.net

Alturas Rancheria, Chairman, P.O. Box 340, Alturas, CA 96101; Phone: (530) 233-5571; Fax: 223-4165

Auburn Rancheria, Attn: Cheryl Douglas, United Auburn Indian Community, 935 Indian Rancheria Road, Auburn, CA 95603; Phone: (916) 251-1550; Fax: (530) 887-1028

Augustine Band of Cahuilla Indians, Mary Ann Green, Chairperson, P.O. Box 846, Coachella, CA 92236; Phone: (760) 398-4722

B

Barona Band of Mission Indians, Charity White-Voth, Kumeyaay Family Services Director, Southern Indian Health Council, Inc., 4058 Willow Rd., Alpine, CA 91903; Phone: (619) 445-1188; Fax: (619) 445-0765

Bear River Band of Rohnerville Rancheria, Althea Jones, ICWA Advocate, 266 Keisner Rd., Loleta, CA 95551; Phone: (707) 773-1900 Ext;169 Fax: (707) 875-7229; Email: altheajones@brb-nsn.gov

Berry Creek Rancheria (See Tyme Maidu Tribe)

Big Lagoon Rancheria, Chairperson, P.O. Box 3060, Trinidad, CA 95570; Phone: (707) 826-2079; Fax: (707) 826-0495

Big Pine Paiute Tribe, Rhonda Willis, Tribal Administrator/ICWA Representative, P.O. Box 700, Big Pine, CA 93513; Phone: (760) 938-2003; Fax: (760) 938-2942; Email: r.willis@bigpinepaiute.org

Big Sandy Rancheria, Regina Riley, Tribal Council Secretary, P.O. Box 337, Auberry, CA 93602; Phone: (559) 374-0066; Fax: (559) 374-0055; Email: GRiley@bsrnation.com

Big Valley Rancheria, ICWA, 2726 Mission Rancheria Road, Lakeport, CA 95453; Phone: (707) 263-3924; Fax: (707) 263-3977; Email: resparza@big-valley.net

Bishop Paiute Tribe, Margaret L. Romero, ICWA Specialist; 50 TuSu Lane, Bishop, CA 93514; Phone: (760) 873-4414; Fax: (760) 873-4143; Email: margaret.romero@bishoppaiute.org

Blue Lake Rancheria, Arlea Ramsey, Tribal Administrator, P.O. Box 428, Blue Lake, CA 95525; Phone: (707) 668-5101; Fax: (707) 668-4272; Email: aramsey@bluelakerancheria-nsn.gov

Bridgeport Indian Colony, Justin Nalder, Tribal Administrator, P.O. Box 37 or 355 Sage Brush Drive, Bridgeport, CA 93517; Phone: (760) 932-7083; Fax: (760) 932-7846; Email: admin@bridgeportindiancolony.com

Buena Vista Rancheria of Me-Wuk Indians, Penny Arciniaga, Tribal Member Services, 1418 20th Street, Suite 200, Sacramento, CA 95811; Phone: (916) 491-0011; Fax: (916) 491-0012; Email: penny@buenavistatribe.com

C

Cabazon Band of Mission Indians, Chairman, 84-245 Indio Springs Drive, Indio, CA 92201; Phone: (760) 342-2593; Fax: (760) 347-7880

California Valley Miwok Tribe, as of date, there is no recognized government for this federally recognized tribe. Please contact Pacific Regional Director for up to date information.

Cahuilla Band of Mission Indians, Tribal Council, 52701 Hwy. 371, Anza, CA 92539; Phone: (951) 763-5549; Fax: (951) 763-2808. Email: tribalcouncil@cahuilla.net

Campo Band of Mission Indians, Charity White-Voth, Kumeyaay, Family Services Director, Southern Indian Health Council, Inc., 4058 Willow Rd., Alpine, CA 91903; Phone: (619) 445-1188; Fax: (619) 445-0765

Cedarville Rancheria, Nikki Munholand, Tribal Administrator, 300 West First Street, Alturas, CA 96101; Phone: (530) 233-3969; Fax: (530) 233-4776; Email: cr.munholand@gmail.com

Cher-Ae Heights Indian Community of the Trinidad Rancheria, Amy Atkins, Executive Manager, P.O. Box 630, Trinidad, CA 95570; Phone: (707) 677-0211; Fax: (707) 677-3921; Email: aatkins@trinidadrancheria.com

Chicken Ranch Rancheria, Jan Costa, Tribal Administrator, P.O. Box 1159, Jamestown, CA 95327; Phone: (209) 984-4806; Fax: (209) 984-5606; Email: chixrnch@mlode.com

Cloverdale Rancheria of Pomo Indians, Trina Vega, ICWA Advocate, 555 S. Cloverdale Blvd., Cloverdale, CA 95425; Phone: (707) 894-5775; Fax: (707) 894-5727; Email: trina@cloverdalerancheria.com

Cold Springs Rancheria, Carol Bill, Tribal Chairperson, P.O. Box 209 Tollhouse, CA 93667; Phone: (559) 855-5043; Fax: (559) 855-4445; Email: csrchair@netptc.net

Cachil DeHe Wintun/Colusa Indian Community, Yvonne Page, Counselor, 3730 Highway 45, Colusa, CA 95932; Phone: (530) 458-6571; Fax: (530) 458-8061: Email: ypage@colusa-nsn.gov

Cortina Band of Wintun Indians (Cortina Indian Rancheria), Charlie Wright, Tribal Chairman, P.O. Box 1630, Williams, CA 95987; Phone: (530) 473-3274; Fax: (530) 473-3301

Coyote Valley Band of Pomo Indians, c/o Lorraine Laiwa, Indian Child And Family Preservation Program, 684 South Orchard Avenue, Ukiah, CA 95482; Phone: (707) 463-2644; Fax: (707) 463-8956

Cuyapaipe Ewiiaapaayp Band of Kumeyaay Indians (See Ewiiaapaayp Band of Kumeyaay Indians)

D

Dry Creek Rancheria Band of Pomo Indians, Percy Tejada, ICWA Advocate, P.O. Box 607 Geyserville, CA 95441; Phone: (707); 431-4090 Fax: (707) 522-4291; Email: percyt@drycreekrancheria.com

E

Elem Indian Colony, Agustin Garcia, Chairman, P.O. Box 757 Lower Lake, CA 95457; Phone: (707) 994-3400; Fax: (707) 994-3408; Email: t.brown@elemindiancolony.org

Elk Valley Rancheria, Christina Jones, Council Enrollment Officer & Secretary, 2332 Howland Hill Rd, Crescent City, CA 95531; Phone: (707) 464-4680; Fax: (707) 464-4519; Email: lquinnell@elk-valley.com

Enterprise Rancheria, Shari Ghalayini, ICWA Director, 2133 Monte Vista Ave, Oroville, CA 95966; Phone: (530) 532-9214; Fax: (530) 532-1768; Email: sharig@enterpriserancheria.org

Ewiiaapaayp Band of Kumeyaay Indians, Will Micklin, CEO, 4050 Willow Road, Alpine, CA 91901; Phone: (619) 445-6315; Fax: (619) 445-9126; Email: wmicklin@leaningrock.net

F

Federated Indians of Graton Rancheria, Lara Walker, Human Services, 6400 Redwood Drive, Suite 300, Rohnert Park, CA 94928; Phone: (707) 566-2288: Fax: (707) 566-2291; Email: lwalker@gratonrancheria.com

Fort Bidwell Reservation, Bernold Pollard, Chairperson, P.O. Box 129, Fort Bidwell, CA 96112; Phone: (530) 279-6310; Fax: (530) 279-2233

Fort Independence Indian Reservation, Israel Naylor, Tribal Chairman, P.O. Box 67 or 131 North Hwy 395, Independence, CA 93526; Phone: (760) 878-5160: Fax: (760) 878-2311; Email: Israel@fortindependence.com

G

Greenville Rancheria, Patty Allen, ICWA Coordinator, P.O. Box 279, Greenville, CA 95947; Phone: (530) 284-7990; Fax: (530) 284-7299; Email: pallen@greenvillerancheria.com

Grindstone Indian Rancheria, Aaston Bill, ICWA, P.O. Box 63, Elk Creek, CA 95939; Phone: (530) 968-5365; Fax: (530) 968-5366

Guidiville Band of Pomo Indians, Merlene Sanchez, Tribal Chairperson, P.O. Box 339, Talmage, CA 95481; Phone: (707) 462-3682; Fax: (707) 462-9183; Email: admin@guidiville.net

H

Habematolel Pomo of Upper Lake, Angelina Arroyo, ICWA Advocate, 375 E. Hwy 20, Suite “I”, P.O. Box 516, Upper Lake, CA 95485-0516; Phone: (707) 275-0737, X 25; or (707) 275-9050 X 202 Fax: (707) 275-0757; Email: aarroyo@hpultribe-NSN.gov

Hoopa Valley Tribe, Director, Human Services, P.O. Box 1348, Hoopa, CA 95546; Phone: (530) 625-4211; Fax: (530) 625-4594

Hopland Band of Pomo Indians, Josephine Loomis, ICWA Social Case Manager, 3000 Shanel Rd., Hopland, CA 95449; Phone: (707) 472-2100 Ext: 1114; Fax: (707) 744-8643, Email: jloomis@hoplandtribe.com

I

Inaja & Cosmit Band of Mission Indians, Tribal Family Services, Director of Social Services, Indian Health Council, Inc., P.O. Box 406, Pauma Valley, CA 92061; Phone: (760) 749-1410; Fax: (760) 749-5518

Ione Band of Miwok Indians, Tracy Tripp, Vice-Chair, P.O. Box 699, Plymouth, CA 95669; Phone: (209) 257-9196; Fax: (209) 245-6377; Email: tracy@ionemiwok.org

J

Jackson Rancheria Band of Miwuk Indians, Marshawn Morla, Tribal Secretary, P.O. Box 1090, Jackson, CA 95642; Phone: (209) 223-1935; Fax: (209) 223-5366; Email: mmorla@jacksoncasino.com

Jamul Indian Village, Charity White- Voth, Kumeyaay Family Services Director, Southern Indian Health Council, Inc., 4058 Willow Rd., Alpine, CA 91903; Phone: (619) 445-1188; Fax: (619) 445-0765

K

Karuk Tribe of California, Patricia Hobbs, LCSW, Director Child and Family Services, 1519 S. Oregon Street, Yreka, CA 96097; Phone: (530) 841-3141, x-6304; Fax: (530) 841-5150; Email: phobbs@karuk.us

L

La Jolla Band of Luiseno Indians, Tribal Family Services, Director of Social Services, Indian Health Council, Inc., P.O. Box 406, Pauma Valley, CA 92061; Phone: (760) 749-1410; Fax: (760) 749-5518

La Posta Band of Mission Indians, Charity White-Voth, Kumeyaay Family Services Director, Southern Indian Health Council, Inc., 4058 Willow Rd., Alpine, CA 91903; Phone: (619) 445-1188; Fax: (619) 445-0765

Laytonville Rancheria, Cherie Smith- Gibson, Tribal Administrator, P.O. Box 1239, Laytonville, CA 95454; Phone: (707) 984-6197 Ext: 104; Fax: (707) 984-6201; Email: ta@cahto.org

Lone Pine Reservation, Kathy Brancroft, Enrollment Committee Chairperson, P.O. Box 747, Lone Pine, CA 93545; Phone: (760) 876-1034; Fax: (760) 876-8302

Los Coyotes Band of Cahuilla & Cupeno Indians, Tribal Family Services, Director of Social Services, Indian Health Council, Inc., P.O. Box 406, Pauma Valley, California 92061; Phone: (760) 749-1410; Fax: (760) 749-5518

Koi Nation of Northern California, Chairperson, P.O. Box 3162, Santa Rosa, CA 95402; Phone: (707) 575-5586; Fax: (707) 575-5506

Lytton Rancheria c/o Indian Child and Family Preservation Program, Liz DeRouen, 2525 Cleveland Ave, Suite H, Santa Rosa, CA 95403; Phone: (707) 544-8509; Fax: (707) 544-8729; Email: lizderouen@sbcglobal.net

M

Manchester-Point Arena Band of Pomo Indians, Christine Dukatz, ICWA Director/Tribal Administrator, P.O. Box 623, Point Arena, CA 95468; Phone: (707) 882-2788 x 405; Fax: (707) 882-3417; Email: christi.dukatz@gmail.com

Manzanita Band of Mission Indians, Chairperson, P.O. Box 1302, Boulevard, CA 91905; Phone: (619) 766-4930; Fax: (619) 766-4957

Mechoopda Indian Tribe, Susan Bromley, Office Manager, 125 Mission Ranch Boulevard, Chico, CA 95926; Phone: (530) 899-8922 Ext: 210; Fax: (530) 899-8517; Email: sbromley@mechoopda-nsn.gov

Mesa Grande Band of Mission Indians, Tribal Family Services, Director of Social Services, Indian Health Council, Inc., P.O. Box 406, Pauma Valley, CA 92061; Phone: (760) 749-1410; Fax: (760) 749-5518

Middletown Rancheria, ICWA Director, Mary Comito, P.O. Box 1829; Middletown, CA 95461; Phone: (707) 987-8288; Fax: (707) 987-8205; Cell: (707) 326-6876; Email: mcomito@middletownrancheria.com

Mooretown Rancheria of Maidu Indians in California, Gary Archuleta, Tribal Chairman, 1 Alverda Drive, Oroville, CA 95966; Phone: (530) 533-3625; Fax: (530) 533- 4080; Email: gwarchuleta@mooretown.org

Morongo Band of Cahuilla Mission Indians, Paula Tobler, Social Worker, 11581 Potrero Road, Banning, CA 92220; Phone: (951) 849-4697; Fax: (951) 922-0338

N

North Fork Rancheria of Mono Indians, Elaine Fink, Tribal Chairwoman, P.O. Box 929, North Fork, CA 93643; Phone: (559) 877-2484; Fax: (559) 877-2467; Email: efink@northforkrancheria-nsn.gov

P

Pala Band of Mission Indians, Season Lattin, ICWA Manager, Department of Social Services, 35008 Pala-Temecula Road, PMB 50, Pala, CA 92059. Phone: (760) 891-3542; Fax: (760) 742-1293

Paskenta Band of Nomlaki Indians, Ines Crosby, Tribal Administrator, 1012 South Street, Orland, CA 95963; Phone: (530) 865-2010; Fax: (530) 865-1870; Email: office@paskenta.org

Pauma & Yuima Band of Mission Indians, Tribal Family Services, Director of Social Services, Indian Health Council, Inc., P.O. Box 406, Pauma Valley, CA 92061; Phone: (760) 749-1410; Fax: (760) 749-5518

Pechanga Band of Mission Indians, Mark Macarro, Spokesman, P.O. Box 1477, Temecula, CA 92593; Phone: (951) 676-2768; Fax: (951) 695-1778

Picayune Rancheria of the Chukchansi Indians, Orianna C. Walker, ICWA Coordinator, 46575 Road 417, Coarsegold, CA 93614; Phone: (559) 683-6633 Ext: 212; Fax: (559) 683-0599; Email: orianna.walker@chukchansi.net

Pinoleville Pomo Nation, Veronica Timberlake, Social Services Director/ICWA Advocate, 500 B Pinoleville Drive, Ukiah, CA 95482; Phone: (707) 463-1454; Fax: (707) 463-6601; Email: veronicat@pinoleville-nsn.us

Pit River Tribe, Vernon Ward, Jr., Coordinator, Social Services, 36970 Park Avenue, Burney, CA 96013; Phone: (530) 335-5530; Fax: (530) 335-3140

Potter Valley Tribe, Salvador Rosales, Tribal Chairman, 2251 South State Street, Ukiah, CA 95482; Phone: (707) 462-1213; Fax: (707) 462-1240; Email: pottervalleytribe@pottervalleytribe.com

Q

Quartz Valley Indian Reservation, Mike Slizewski, ICWA Director, 13601 Quartz Valley Rd., Fort Jones, CA 96032; Phone: (530) 468-5907; x-312 Fax: (530) 468-5908; Email: Mike.Slizewski@qvir-nsn.gov

R

Ramona Band or Village of Cahuilla, Susan Reckker, Tribal Administrator, P.O. Box 391670 Anza, CA 92539; Phone: (951) 763-4105; Fax: (951) 763-4325; Email: sreckker@ramonatribe.com

Redding Rancheria, Director, Social Services, 2000 Rancheria Road, Redding, CA 96001-5528; Phone: (530) 225-8979

Redwood Valley Rancheria-Band of Pomo, Janie Nevarez, ICWA Coordinator, 3250 Road I, “B” Building, Redwood Valley, CA 95470; Phone: (707) 485-0361; Fax: (707) 485-5726

Resighini Rancheria, Keshan Dowd, Social Services Director, P.O. Box 529, Klamath, CA 95548; Phone: (707) 482-2431; Fax: (707) 482-3425; Email: keshandowd08@gmail.com

Rincon Band of Luiseno Mission Indians, Alfonso Kalb Sr. Councilman, 1 West Tribal Road, Valley Center, CA 92082 Phone: (760) 749-1051; Fax: (760) 749-5144; Email: council@rincontribe.org

Robinson Rancheria, ICWA Coordinator, P.O. Box 4015, Nice, CA 95464; Phone: (707) 275-0527; Fax: (707) 275-0235; Email: mvasquez@robinsonrancheria.com

Round Valley Indian Tribes, Steven Luna, Director, 77826 Covelo Road, Covelo, CA 95428; Phone: (707) 983-8008; Fax: (707) 983-6060; Email: sluna@icwa.rvit.org

S

San Manuel Band of Mission Indians, Tribal Secretary, 26569 Community Center Drive, Highland, CA 92346; Phone: (909) 864-8933; Fax: (909) 864-3370

San Pasqual Band of Diegueno Mission Indians, Tribal Family Services, Director of Social Services, Indian Health Council, Inc., P.O. Box 406, Pauma Valley, CA 92061; Phone: (760) 749-1410; Fax: (760) 749-5518

Santa Rosa Band of Cahuilla Indians, Terrance Hughes, Tribal Administrator, P.O. Box 391820, Anza, CA 92539; Phone: (951) 659-2700; Fax: (951) 689-2228. Email: thughes@santarosacahuilla-nsn.gov

Santa Rosa Rancheria Tachi-Yokut Tribe, Janice Cuara, Tribal Administrator, 16835 Alkali Drive; P.O. Box 8, Lemoore, CA 93245; Phone: (559) 924-1278 Ext: 4051; Cell: (559) 381-4928; Fax: (559) 925-2931; Email: jcuara@tachi-yokut.com

Santa Ynez Band of Chumash Indians, Caren Romero, ICWA Representative, 90 Via Juana Lane, Santa Ynez, CA 93460; Phone: (805) 694-2671; Fax: (805) 686-2060; Email: cromero@sythc.com

Santa Ysabel Band of Mission Indians-Iipay Nation, Linda Ruis, Director, Santa Ysabel Social Services Dept., P.O. Box 701, Santa Ysabel, CA 92070; Phone: (760) 765-1106; Fax: (760) 765-0312

Scotts Valley Band of Pomo Indians, Tribal ICWA Worker, 301 Industrial Ave., Lakeport, CA 95453; Phone: (707) 263-4220; Fax: (707) 263-4345; Email: cmiller@svpomo.org

Sherwood Valley Band of Pomo Indians, Michael Fitzgerral, Tribal Chairman, 190 Sherwood Hill Drive, Willits, CA 95490; Phone: (707) 459-9690; Fax: (707) 459-6936; Email: svrchair@gmail.com

Shingle Springs Band of Miwok Indians (Shingle Springs Rancheria), Malissa Tayaba, Social Services Director, P.O. Box 1340; Shingle Springs, CA 95682; Phone: (530) 698-1436 or (530) 698-1400; Fax: (530) 387-8041; Email: mtayaba@ssband.org

Smith River Rancheria, Dorothy Perry, Director, 140 Rowdy Creek Road, Smith River, CA 95567-9446; Phone: (707) 487-9255; Fax: (707) 487-0930

Soboba Band of Luiseno Indians, Nancy Currie, Director, Soboba Tribal Family Services Department; P.O. Box 487, San Jacinto, CA 92581; Phone: (951) 487-0283; Fax: (951) 487-1738

Kashia Band of Pomo Indians of the Stewarts Point Rancheria, Melissa Cerda, Administrative Assistant, 1420 Guerneville Rd, Suite 1, Santa Rosa, CA 95403; Phone: (707) 591-0580; Fax: (707) 591-0583; Email: melissa@stewartspoint.org

Susanville Indian Rancheria, Deborah Olstad, Tribal Office Manager, 745 Joaquin St., Susanville, CA 96130; Phone: (530) 251-5153; Fax: (530) 257-7986; Email: dolstad@citlink.net

Sycuan Band of Mission Indians, Charity White-Voth, Kumeyaay Family Services Director, Southern Indian Health Council, Inc., 4058 Willow Rd., Alpine, CA 91903; Phone: (619) 445-1188; Fax: (619) 445-0765

T

Table Mountain Rancheria, Frank Marquez Jr., Tribal Chief of Police, 23736 Sky Harbour Rd., Friant, CA 93626; Phone: (559) 822-6336; Fax: (559) 822-6340; Email: fmarquezjr@tmr.org

Tejon Indian Tribe, Kathryn Montes Morgan, Tribal Chair, 1731 Hasti- Acres Drive #108, Bakersfield, CA 93309; Phone: (661) 834-8566; Fax: (661) 834-8564; Email: kmorgan@tejontribe.net

Timbi-sha Shoshone Tribe, Wallace Eddy, ICWA Representative, 621 West Line Street, Suite 109, Bishop, CA 93514; Phone: (760) 872-3614; Fax: (760) 872-3670; Email: icwa@timbisha.com

Torres Martinez Desert Cahuilla Indians, Annette Chihuahua, ICWA Case Assistant/Tribal Delegate TMDCI, 66-725 Martinez Rd., Thermal, CA 92274; Phone: (760) 578-8334 or (760) 397-0455 Ext: 1222; Fax: (760) 397-1019; Email: achihuahua@tmdci.org

Tule River Reservation, Lolita Garfield, MSW, Director Family Social Services, 340 North Reservation Road, Porterville, CA 93258; Phone: (559) 781-4271 Ext: 1013; Fax: (559) 791-2122; Email: icwadir@tulerivertribe-nsn.gov

Tuolumne Band of Me-Wuk Indians, Kevin Day, Tribal Chair, P.O. Box 699, Tuolumne, CA 95379; Phone: (209) 928-5300; Fax: (209) 928-1677; Email: kday@mewuk.com

Twenty-Nine Palms Band of Mission Indians, Executive Director, Indian Child & Family Services, P.O. Box 2269, Temecula, CA 92590; Phone: (951) 676-8832; Fax: (951) 676-3950

Tyme Maidu Tribe (Berry Creek Rancheria), Terilynn Steel, ICWA Supervisor, 5 Tyme Way, Oroville, CA 95966; Phone: (530) 534-3859; Fax: (530) 534-1151; Email: jessebrown@berrycreekrancheria.com

U

Utu Utu Gwaitu Paiute Tribe, Megan Leplat, ICWA Worker, 25669 Hwy 6, PMB I, Benton, CA 93512; Phone: (760) 933-2321; Fax: (760) 933-2412; Email: meganleplat@gmail.com

V

Viejas (Baron Long) Band of Mission Indians, Charity White-Voth, Kumeyaay Family Services Director, Southern Indian Health Council, Inc., 4058 Willow Rd., Alpine, CA 91903; Phone: (619) 445-1188; Fax: (619) 445-0765

W

Wilton Rancheria, Monica Olvera-Walker, Social Services Coordinator, 9728 Kent Street, Elk Grove, CA 95624; Phone: (916) 683-6000; Fax: (916) 683-6015; Email: mwalker@wiltonrancheria-nsn.gov

Wiyot Tribe, Sarah Vevoda, Director of Social Services, 1000 Wiyot Drive, Loleta, CA 95551; Phone: (707) 733-5055; Fax: (707) 482-1377

Y

Yocha Dehe Wintun Nation, James Kinter, Tribal Council Secretary, P.O. Box 18, Brooks, CA 95606; Phone: (530) 796-3400; Fax: (530) 796-2143; Email: djones@yochadehe-nsn.gov

Yurok Tribe, Stephanie Weldon, Director Social Services, P.O. Box 1027, Klamath, CA 95548; Phone: (707) 482-1350; Fax: (707) 482-1377; Email: sweldon@yuroktribe.nsn.us

9. Rocky Mountain Region

Rocky Mountain Regional Director, 2021 4th Avenue, Billings, MT 59101; Phone: (406) 247-7943; Fax: (406) 247-7976

B

Blackfeet Tribe of Montana, Kathy Calf Boss Ribs, ICWA Coordinator; Darlene H. Peterson, ICWA Inquiry Technician, P.O. Box 588, Browning, MT 59417; Phone: (406) 338-7806; Fax: (406) 338-7726; Email: kathybossribs@yahoo.com

C

Chippewa Cree Tribe of the Rocky Boy's Reservation of Montana, Christina Trottier, ICWA Case Manager, 31 Agency Square, Box Elder, MT 59521; Phone: (406) 395-5709; Fax: (406) 395-5702; Email: christina.trottier@yahoo.com

Crow Tribe of the Crow Reservation of Montana, Melveen Paula Fisher, ICWA Coordinator, P.O. Box 340, Crow Agency, MT 59022; Phone: (406) 679-3041; Fax: None; Email: melveenpaula.fisher@crow-nsn.gov

E

Eastern Shoshone Tribe of the Wind River Reservation, Amella Oldman, ICWA Coordinator, P.O. Box 1796, Fort Washakie, WY 82514; Phone: (307) 332-6591; Fax: (307) 332-6593; Email: artoldman@gmail.com

F

Fort Belknap Indian Community, Myron L. Trottier, ICWA Case Manager, Fort Belknap Social Services, 656 Agency Main Street, Harlem, MT 59526; Phone: (406) 353-8328; Fax: (406) 353-4634; Email: mtrottier@ftbelknap.org

Fort Peck Assiniboine and Sioux Tribes, Michelle Trottier, ICWA Coordinator, P.O. Box 1027, Poplar, MT 59255; Phone: (406) 768-2402; Fax: (406) 768-3710; Email: mtrottier@fptc.org

N

Northern Arapaho Tribe of the Wind River Reservation, June Shakespeare, ICWA Coordinator, P.O. Box 77, St. Stevens, WY 82524; Phone: (307) 857-5728; Fax: (307) 857-5741; Email: june.shakespeare@wyo.gov

Northern Cheyenne Tribe, Mark Roundstone, ICWA Coordinator, P.O. Box 128, Lame Deer, MT 59043; Phone: (406) 477-4830; Fax: (406) 477-8333; Email: markroundstone@cheyennenation.com

10. Southern Plains Region

Southern Plains Regional Director, P.O. Box 368, Anadarko, OK 73005; Phone: (405) 247-6673 Ext. 217; Fax: (405) 247-5611

A

Absentee-Shawnee Tribe of Oklahoma Indians, Annette Wilson, Social Services, 2025 S. Gordon Cooper Drive, Shawnee, OK 74801; Phone: (405) 275-4030; Fax: (405) 275-1922

Alabama-Coushatta Tribe of Texas, Michelle Janis, Social Services Director, 571 State Park Road 56, Livingston, TX 77351; (936) 563-1252; Fax: (936) 563-1254

Apache Tribe of Oklahoma, Anadarko Agency, Community Services, P.O. Box 309, Anadarko Oklahoma, 73005, Sallie Allen, Supervisory Social Worker, (405) 247-8515; Fax (405) 247.2252; Email: sallie.allen@bia.gov

C

Caddo Nation of Oklahoma, (Wichita & Affiliated Tribes), Johnna Hurt, ICW Caseworker, P.O. Box 729, Anadarko, OK 73005; Phone: (405) 247-8628; Fax: (405) 247-8873; Email: johnna.hurt@wichitatribe.com

Cheyenne and Arapaho Tribes of Oklahoma, Katy Towell, ICW Coordinator; P.O. Box 38, Concho, OK 73022; Phone: (405) 422-7476/(405) 201-3188; Fax: (405) 422-8218 or (405) 422-3164; Email: ktowell@c-a-tribes.org

Citizen Potawatomi Nation, Janet Draper, Director, 1601 S. Gordon Cooper Drive, Shawnee, OK 74801; Phone: (405) 878-4831; Fax: (405) 878-4659; Email: jdraper@potawatomi.org

Comanche Nation-Oklahoma, Mona Perea, ICW Director, P.O. Box 908, Lawton, OK 73502; Phone: (580) 280-4743; Fax: (580) 354-3838; Email: ramonap@comanchenation.com

D

The Delaware Nation, Juan Feliciano, ICW Director, P.O. Box 825, Anadarko, OK 73005; Phone: (405) 247-2448 Ext: 1152; Fax (405) 247-5942; Email: Jfeliciano@delawarenation.com

F

Fort Sill Apache Tribe of Oklahoma, Ramona Austin, ICWA Director, 43187 US Highway 281, Apache, OK 73006; Phone: (580) 522-2298 Ext. 109; Fax: (580) 588-2106; Email: mona.austin@fortsillapache-nsn.gov

I

Iowa Tribe of Kansas, Chairperson, 3345 B. Thrasher Rd., White Cloud, KS 66094; Phone: (785) 595-3258; Fax: (785) 595-6610

Iowa Tribe of Oklahoma, Ashley Moore, 335588 E. 750 Road Perkins, OK 74059; Phone: (405) 547-2402; Fax: (405) 547-1032; Email: amoore@iowanation.org

K

Kaw Nation, Chairperson, P.O. Box 50, Kaw City, Oklahoma 74641; Phone: (580) 269-2113

Kickapoo Traditional Tribe of Texas, Director Indian Child Welfare, 286 Falcon Blvd., Eagle Pass, TX 78852; Phone: (830) 766-5601; Work Cell: (830) 513-2937; Fax: (830) 776-5605

Kickapoo Tribe of Indians of The Kickapoo Reservation in Kansas, Chairperson, P.O. Box 271, Horton, KS 66439; Phone: (785) 486-2131

Kickapoo Tribe of Oklahoma, Mary Davenport, Indian Child Welfare Director, P.O. Box 469, McLoud, OK 74851; Phone: (405) 964-5426; Fax: (405) 964-5431; Email: mdavenport@kickapootribeofoklahoma.com

Kiowa Tribe of Oklahoma, Shannon Ahtone, ICWA Director, P.O. Box 369, Carnegie, Oklahoma 73015; Phone: (580) 654-2300; Fax: (580) 654-2363

O

Otoe-Missouria Indian Tribe of Oklahoma, Ada Mehojah, Social Services Director, 8151 Highway 177 Red Rock, OK 74651; Phone: (580) 723-4466 Ext: 256; Cell Phone: (580) 307-7303; Fax: (580) 723-1016; Email: amehojah@omtribe.org

P

Pawnee Nation of Oklahoma, Anne Marie DeHaas, ICWA Director, P.O. Box 470, Pawnee, OK 74058; Phone: (918) 762-3873; Fax: (918) 762-6449

Ponca Tribe of Oklahoma, Chairperson, 20 White Eagle Drive, Ponca City, OK 74601; Phone: (580) 762-8104

Prairie Band of Potawatomi Nation, Chairperson, 16281 Q. Road, Mayetta, KS 66509; Phone: (785) 966-2255

S

Sac and Fox Nation in Kansas and Nebraska, Chairperson Edmore Green, 305 N. Main Street, Reserve, KS 66434; Phone: (785) 742-7471; Fax: (785) 742-3785; Email: egreen@sacandfoxcasino.com

Sac and Fox Nation, Principal Chief, Route 2, Box 246, Stroud, OK 74079; Phone: (918) 968-3526

T

Tonkawa Tribe of Oklahoma, President, P.O. Box 70, Tonkawa, OK 74653; Phone: (580) 628-2561

W

Wichita & Affiliated Tribes, Johnna Hurt, ICW Caseworker, P.O. Box 729, Anadarko, OK 73005; Phone: (405) 247-8628; Fax: (405) 247-8873; Email: johnna.hurt@wichitatribe.com

11. Southwest Region

Southwest Regional Director, 1001 Indian School Road, NW, Albuquerque, NM 87104; Phone: (505) 563-3103; Fax: (505) 563-3101

A

Pueblo of Acoma, Marsha Vallo, Child Welfare Coordinator, P.O. Box #354, Acoma, NM 87034; Phone: (505) 552-5162; Fax: (505) 552-0903; Email: mlvallo@puebloofacoma.org

C

Pueblo de Cochiti, Tanya Devon Torres, ICWA Specialist, P.O. Box 70, Cochiti Pueblo, NM 87072; Phone: (505) 465-3139; Fax: (505) 465-3173; Email: tanya_torres@pueblodecochiti.org

I

Pueblo of Isleta, Caroline Dailey, Social Services Director or Jacqueline Yalch, ICWA Coordinator, P.O. Box 1270, Isleta, NM 87022; Phone: (505) 869-2772 or (505) 869-5283; Fax (505) 869-7575; Email: poi05001@isletapueblo.com

J

Pueblo of Jemez, Annette Gachupin, Child Advocate; P.O. Box 340, Jemez Pueblo, NM 87024; Phone: (575) 834-7117; Fax: (575) 834-7103; Email: agachupin@jemezpueblo.us

Jicarilla Apache Nation, Sharnen Velarde, ICWA Social Worker, P.O. Box 546, Dulce, NM 87528; Phone: (575) 759-1712; Fax: (575) 759-3757; Email: svelarde@jbhd.org

L

Pueblo of Laguna, Marie A. Alarid, Program Manager, Social Services Department, P.O. Box 194, Laguna, NM 87026; Phone: (505) 552-6513 or (505) 552-5677; Fax: (505) 552-6387; Email: malarid@lagunapueblo-nsn.gov

M

Mescalero Apache Tribe, Crystal Lester, Tribal Census Clerk, P.O. Box 227, Mescalero, NM 88340; Phone (575) 464-4494; Fax: (575) 464-9191; Email: clester@mescaleroapachetribe.com

N

Pueblo of Nambe, Rhonda Padilla, ICWA Manager, Rte 1, Box 117-BB, Santa Fe, NM 87506; Phone (505) 445-0133; Fax (505) 455-4457; Email: rpadilla@nambepueblo.org

O

Ohkay Owingeh, Rochelle Thompson, ICWA Manager, P.O. Box 1187, Ohkay Owingeh, NM 87566; Phone: (575) 852-4400; Fax: (505) 692-0333; Email: rochelle.thompson@ohkayowingeh-nsn.org

P

Pueblo of Picuris, J. Albert Valdez, ICWA, P.O. Box 127, Penasco, NM 87553; Phone: (575) 587-1003; Fax (575) 587-1003; jav.icwa@picurispueblo.org

Pueblo of Pojoaque, Elizabeth Duran, Social Services Director, 58 Cities of Gold Rd. Suite 4, Santa Fe; NM 87506; Phone: (505) 455-0238; Fax: (505) 455-2363; Email: eduran@pojoaque.org

R

Ramah Navajo School Board, Inc., Loretta Martinez, Social Services Director, P.O. Box 250, Pine Hill, NM 87357; Phone: (505) 775-3221, 22, 25; Fax: (505) 775-3520; Email: loretta@rnsb.k12.nm.us

S

Pueblo of San Felipe, Darlene J. Valencia, Family Services Director, P.O. Box 4339, San Felipe Pueblo, NM 87004; Phone: (505) 771-9900; Fax: (505) 867-6166; Email: dvalencia@sfpueblo.com

Pueblo of San Ildelfonso, Jacqueline X. Benitez, ICWA/Family Advocate, 02 Tunyo Po, Santa Fe, NM 87506; Phone: (505) 455-4164; Cell: (505) 699-0164; Email: jbenitez@sanipueblo.org

Pueblo of Sandia, Kimberly Lorenzini, Case Manager, 481 Sandia Loop, Bernalillo, NM 87004; Phone: (505) 771-5117; Fax: (505) 867-7099; Email: klorenzini@sandiapueblo.nsn.us

Pueblo of Santa Ana, Mary E. Templin, Social Services Manager, 02 Dove Road, Santa Ana Pueblo, NM 87004; Phone: (505) 771-6737; Fax: (505) 771-6537; Email: mary.templin@santaana-nsn-gov

Pueblo of Santa Clara, Dennis Silva, Director of Social Services, P.O. Box 580, Espanola, NM 87532; Phone: (505) 753-0419; Fax: (505) 753-0420; Email: dsilva@santaclarapueblo.org

Pueblo of Santo Domingo-Kewa, Virginia Tenorio, Family Service Worker, or Doris Bailon, Social Services Director, P.O. Box 129, Santo Domingo, NM 87052; Phone: (505) 465-0630; Fax: (505) 465-2854; Email: vtenorio@kewa-nsn.gov or dbailon@kewa-nsn.gov

Southern Ute Indian Tribe, Jeri K. Sindelar, ICWA Caseworker II, MS 40, P.O. Box 737, Ignacio, CO 81137; Phone: (970) 769-2920; Fax: (970) 563-4862; Email: jsindelar@southernute-nsn.gov

Southern Ute Indian Tribe, Peg Rogers, Social Services Attorney, MS 53, P.O. Box 737, Ignacio, CO 81137; Phone (970) 563-0100 #2332; Fax (970) 563-4854; Email: dssattorney@southernute-nsn.gov

T

Pueblo of Taos, Ezra Bayles, Division Director, P.O. Box 1846, Taos, NM 87571; Phone: (575) 758-7824; Fax: (575) 758-3346; Email: ebayles@taospueblo.com

Pueblo of Tesuque, Jeannette Jagles, MSW, ICWA Director, Route 42, Box 360-T, Santa Fe, NM 87506; Phone: (505) 469-0173; Fax: (505) 820-7780; Email: jjagles@pueblooftesuque.org

U

Ute Mountain Ute Tribe, Norma Peabody, Acting Social Services Director, P.O. Box 309, Towaoc, CO 81334; Phone: (970) 564-5307; Fax: (970) 564-5300; Email: npeabody@utemountain.org

Y

Ysleta del Sur Pueblo, Jesus A. Donacio, ICWA Program Specialist, 9314 Juanchido Ln., El Paso, TX 79907; Phone: (915) 860-6170; Fax: (915) 242-6556; Email: jdonacio@ydsp-nsn.gov

Z

Pueblo of Zia, Kateri Chino, MSW, Health & Wellness Director, 135 Capital Square Drive, Zia Pueblo, NM 87053; Phone: (505) 401-6830; Fax: (505) 867-6014; Email: kchino@ziapueblo.org

Pueblo of Zuni, Betty Nez, Social Services Director, P.O. Box 339, Zuni, NM 87327; Phone: (505) 782-7166; Fax: (505) 782-7221; Email: betty.nez@ashiwi.org

12. Western Region

Western Regional Director, 2600 North Central Avenue, Phoenix, AZ 85004; Phone: (602) 379-6600; Fax: (602) 379-4413

A

Ak-Chin Indian Community, Carole Lopez, Enrollment Specialist, 42507 West Peters & Nall Road, Maricopa, AZ 85138; Phone: (520) 568-1029; Fax: (520) 568-1079; Email: clopez@ak-chin.nsn.us

B

Battle Mountain Band Council, Karla Saucedo, Social Worker III, 37 Mountain View Drive, Battle Mountain, NV 89820; Phone: (775) 635-2004; Fax: (775) 635-8528; Email: Karlasaucedo1@yahoo.com

C

Chemehuevi Indian Tribe, June Leivas, Secretary/Treasurer, P.O. Box 1976, Havasu Lake, CA 92363; Phone: (760) 858-4219; Fax: (760) 858-5400

Cocopah Indian Tribe, Tomas Romero, CTS-ICWA Specialist, 14515 South Veterans Drive, Somerton, AZ 85350; Phone: (928) 627-3729; Fax: (928) 627-3316; Email: cocopahicwa@cocopah.com

Colorado River Indian Tribes, Erica Daniels CNC/ICWA Caseworker, 12302 Kennedy Drive, Parker, AZ 85344; Phone: (928) 669-8187; Fax: (928) 669-8881; Email: Erica.daniels@CRIT-DHS.org

Confederated Tribes of the Goshute Reservation, Jeanine Hooper, Social Services/ICWA, HC61 Box 6104, Ibapah, UT 84034; Phone: (435) 234-1141; Fax: (435) 234-1219; Email: Jeanine.hooper@ctgr.us

D

Duckwater Shoshone Tribe, Iskandar Alexandar, LCSW, Social Worker, P.O. Box 140087, Duckwater, NV 89314; Phone: (775) 863-0222; Fax: (775) 863-0142; Email: Iskandar.alexandar@ihs.gov

E

Elko Band Council of Te-Moak Tribe, Dialina Blackhat, Social Worker, or Angela Mendez, ICWA Coordinator; 1745 Silver Eagle Drive, Elko, NV 89801; Phone: (775) 738-9310; Fax: (775) 778-3397; Email: elkobandicwa@frontiernet.net

Ely Shoshone Tribe, Georgia Valdez, Social Services Worker, 16 Shoshone Circle, Ely, NV 89301; Phone: (775) 289-4133; Fax: (775) 289-3237

F

Fallon Paiute-Shoshone Tribe, ICWA Representative, 1007 Rio Vista Drive, Fallon, NV 89406; Phone: (775) 423-1215; Fax: (775) 423-8960; Email: ssdirector@fpst.org

Fort McDermitt Paiute-Shoshone Tribe, Dee Crutcher, ICWA Advocate, P.O. Box 68, McDermitt, NV 89421; Phone: (775) 532-8263, Ext. 111; Fax: (775) 532-8060; Email: dee.crutcher@fmpst.org

Fort McDowell Yavapai Nation, James Esquirell, ICWA Coordinator/CPS Worker, Wassaja Family Services, P.O. Box 17779, Fountain Hills, AZ 85269; Phone: (480) 789-7990; Fax: (480) 837-4809; Email: jesquirell@ftmcdowell.org

Fort Mojave Indian Tribe, Melvin Lewis, Sr., Social Services Department Director, 500 Merriman Avenue, Needles, CA 92363; Phone: (928) 346-1550 or Toll Free Number: (866) 346-6010; Fax: (928) 346-1552; Email: ssdir@ftmojave.com

G

Gila River Indian Community, Sara Bissen, Child & Family Welfare Administrator, P.O. Box 427, Sacaton, AZ 85147; Phone: (520) 562-3396; Fax: (520) 562-3633; Email: Sara.bissen@gric.nsn.us

H

Havasupai Tribe, Erika Marshall, ICWA Coordinator, P.O. Box 10, Supai, AZ 86435; Phone: (928) 448-2661; Email: hticwa@havasupai-nsn.gov

The Hopi Tribe, Social Services Program, Eva Sekayumptewa, MSW, Clinical Supervisor, P.O. Box 945, Polacca, AZ 86042; Phone: (928) 737-1800; Fax: (928) 737-2697

Hualapai Tribe, Janet Silversmith, ICWA Worker, P.O. Box 480, Peach Springs, AZ 86434; Phone: (928) 769-2269/2383/2384/2397; Fax: (928) 769-2659

K

Kaibab Band of Paiute Indians, Manual Savala, Tribal Administrator; HC 65 Box 2, Fredonia, AZ 86022; Phone: (928) 643-7245; Fax: (888) 822-3734

L

Las Vegas Paiute Tribe, Ruth Fitz-Patrick, Social Services Caseworker, 1257 Paiute Circle, Las Vegas, NV 89106; Phone: (702) 382-0784, #410; Fax: (702) 384-5272; Email: rfitzpatrick@lvpaiute.com

Lovelock Paiute Tribe, Fran Machado, Director Social Services Director, 201 Bowean Street, Lovelock, NV 89419; Phone: (775) 273-5081; Fax: (775) 273-5151; fmachado@lovelockpaiutetribe.com

M

Moapa Band of Paiutes, Darren Daboda, Chairman, One Lincoln Street, Moapa, NV 89025; Phone: (702) 865-2787; Fax: (702) 864-2875; Email: d_daboda@yahoo.com

P

Paiute Indian Tribe of Utah, Tyler Goddard, Behavioral Care Director, 440 North Paiute Drive, Cedar City, UT 84721; Phone: (435) 586-1112; Fax: (435) 867-1516; Email: tyler.goddard@ihs.gov

Pascua Yaqui Tribe, Office of the Attorney General, Tamara Walters, Assistant Attorney General, 7777 S. Camino Huivisim, Bldg. C, Tucson, AZ 85757; Phone: (520) 883-5108; Fax: (520) 883-5084; Email: tamara.walters@pascuayaqui-nsn.gov

Pyramid Lake Paiute Tribe, Rose Mary Joe-Kinale, Social Services Director, P.O. Box 256, Nixon, NV 89424; Phone: (775) 574-1047; Fax: (775) 574-1052; Email: rkinale@plpt.nsn.us

Q

Quechan Indian Tribe, Herlinda Ramos, ICWA Specialist Assistant, P.O. Box 189, Yuma, AZ 85364; Phone: (760) 570-0201; Fax: (760) 572-2099; Email: icwaspecialist@quechantribe.com

R

Reno-Sparks Indian Colony, Adriana Botello, Human Services Director, 405 Golden Lane, Reno, NV 89502; Phone: (775) 329-5071; Fax: (775) 785-8758; Email: abotello@rsic.org

S

Salt River Pima-Maricopa Indian Community, Allison Miller, ICWA Coordinator, SRPMIC Social Services Division, 10005 East Osborn Road, Scottsdale, AZ 85256; Phone: (480) 362-5645, Direct: (480) 362-7533; Fax: (480) 362-5574; Email: Allison.Miller@srpmic-nsn.gov

San Carlos Apache Tribe, Aaron Begay, ICWA Coordinator, P.O. Box 0, San Carlos, AZ 85550; Phone: (928) 475-2313; Fax: (928) 475-2342; Email: abegay09@tss.scat-nsn.gov

San Juan Southern Paiute Tribe, James Williams, Superintendent, 180 North 200 East, Suite 111, St. George, UT 84770; Phone: (435) 674-9720, Ext. 5; Fax: (435) 674-9714; Email: james.williams@bia.gov

Shoshone-Paiute Tribes, Zannetta Hanks, LSW, Social Worker, P.O. Box 219, Owyhee, NV 89832; Phone: (775) 757-2921, Ext. 26; Fax: (775) 757-2253; Email: hanks.zannetta@shopai.org

Skull Valley Band of Goshute Indians, Lori Bear, Chairwoman, P.O. Box 448, Grantsville, UT 84029; Phone: (435) 882-4532; Fax: (435) 882-4889; Email: ibear@svgoshutes.com

South Fork Band, Isae King, Social Services Coordinator, 21 Lee, B-13, Spring Creek, NV 89815; Phone: (775) 744-4273, Ext. 106; Fax: (775) 744-4523; Email: sforksocialservices142@gmail.com

Summit Lake Paiute Tribe, Page Linton, Vice-Chairwoman, 1001 Rock Blvd., Sparks, NV 89431; Phone: (775) 827-9670; Fax: (775) 827-9678; Email: page.linton@summitlaketribe.org

T

Te-Moak Tribe of Western Shoshone Indians (See Elko Band Council)

Tohono O'odham Nation, Laura Berglan, Acting Attorney General, P.O. Box 830, Sells, AZ 85634; Phone: (520) 383-3410; Fax: (520) 383-2689; Email: laura.berglan@tonation-nsn.gov

Tonto Apache Tribe, Brian Echols, Social Services Director, T.A.R. #30, Payson, AZ 85541; Phone: (928) 474-5000, Ext. 8120; Fax: (928) 474-4159; Email: bechols@tontoapache.org

U

Ute Indian Tribe, Floyd M. Wyasket, Social Services Director, Box 190, Fort Duchesne, UT 84026; Phone: (435) 725-4026 or (435) 823-0141; Fax: (435) 722-5030; Email: floydw@utetribe.com

W

Walker River Paiute Tribe, Elliott Aguilar, ICWA Specialist, Social Services Department, P.O. Box 146, 1029 Hospital Road, Schurz, NV 89427; Phone: (775) 773-2058, Ext: 11; Fax: (775) 773-2096; Email: eaguilar@wrpt.gov

Washoe Tribe of Nevada and California, Cynthia Blacksmith, Social Services Director, 919 US Highway 395 S., Gardnerville, NV 89410; Phone: (775) 265-8600; Fax: (775) 265-4593; Email: cindy.blacksmith@washoetribe.us

Wells Band Council, Te-Moak of Western Shoshone, Ashley MacClalchey, Social Services/ICWA Coordinator, P.O. Box 809, Wells, NV 89835; Phone: (775) 345-3045, Ext. 1002; Fax: (775) 752-2179; Email: wellsbandssicwa@gmail.com

White Mountain Apache Tribe, Cora Hinton, ICWA Representative/CPS Supervisor, P.O. Box 1870, Whiteriver, AZ 85941; Phone: (928) 338-4164; Fax: (928) 338-1469; Email: chinton@wmat.us

Winnemucca Tribe, Judy Rojo, Chairperson, 595 Humboldt Street, Reno, NV 89509; Phone: (775) 329-5800; Fax: (775) 329.5819

Y

Yavapai-Apache Nation, Ray DiQuarto, Social Services Director, 2400 West Datsi Street, Camp Verde, AZ 86322; Phone: (928) 649-7106; Fax: (928) 567-6832; Email: rdiquarto@yan-tribe.org

Yavapai-Prescott Indian Tribe, Elsie Watchman, Family Support Supervisor, 530 East Merritt, Prescott, AZ 86301; Phone: (928) 515-7351; Fax: (928) 541-7945; Email: ewatchman@ypit.com

Yerington Paiute Tribe, Nathaniel Landa, Human Services Director, 171 Campbell Lane, Yerington, NV 89447; Phone: (775) 463-7705, Ext. 1; Fax: (775) 463-5929; Email: nlanda@ypt-nsn.gov

Yomba Shoshone Tribe, Joshua Lumsden, Social Services Eligibility Worker, HC 61 Box 6275, Austin, NV 89310; Phone: (775) 964-2463, Ext. 107; Fax: (775) 964-1352; Email: Socialservices@yombatribe.org

B. Tribal Agents by Tribal Affiliation

See http://www.bia.gov/WhoWeAre/BIA/OIS/HumanServices/index.htm

Dated: February 23, 2016.
Lawrence S. Roberts,
Acting Assistant Secretary—Indian Affairs.

[FR Doc. 2016-04619 Filed 3-1-16; 8:45 am]

BILLING CODE 4337-15-P